DEPARTMENT OF DEFENSE

Office of the Secretary

32 CFR Part 68

[Docket No. DOD-2013-OS-0093]

RIN 0790-AJ06

Voluntary Education Programs

AGENCY: Office of the Under Secretary of Defense for Personnel and Readiness, DoD.

ACTION: Final rule.

SUMMARY: The Department of Defense (DoD) is publishing this final rule to implement new policy, responsibilities, and procedures for the operation of voluntary education programs within DoD. The new policies discussed in the rule include the following: All educational institutions providing education programs through the DoD Tuition Assistance (TA) Program will provide meaningful information to students about the financial cost and attendance at an institution so military students can make informed decisions on where to attend school; not use unfair, deceptive, and abusive recruiting practices; and provide academic and student support services to Service members and their families. New criteria are created to strengthen existing procedures for access to DoD installations by educational institutions. An annual review and notification process is required if there are changes made to the uniform semester-hour (or equivalent) TA caps and annual TA ceilings. Military Departments will be required to provide their Service members with a joint services transcript (JST). The DoD Postsecondary Education Complaint System is implemented for Service members, spouses, and adult family members to register student complaints. The Military Departments are authorized to establish Service-specific TA eligibility criteria and management controls. The requirement to sign a new DoD Voluntary Education Partnership Memorandum of Understanding (MOU) for all participating educational institutions will be effective 60 days following the publication of this final rule in the Federal Register. Additionally, educational institutions with a current DoD Voluntary Education Partnership MOU that have initiated their application for Title IV eligibility with the Department of Education will have 18 months following the publication of this final rule in the Federal Register to successfully meet the Title IV requirement. New applicants will be required to meet the Title IV requirement before signing a DoD Voluntary Education Partnership MOU.

DATES: This rule is effective July 14, 2014.

FOR FURTHER INFORMATION CONTACT: For general information concerning DoD Voluntary Education Programs, send a written inquiry to Ms. Dawn Bilodeau, at the Office of the Under Secretary of Defense (Personnel & Readiness), Military Community & Family Policy, State Liaison and Educational Opportunities, 4800 Mark Center Drive, Suite 14E08, Alexandria, Virginia 22350-2300 (email: dawn.a.bilodeau.civ@mail.mil).

SUPPLEMENTARY INFORMATION:

Executive Summary

This final rule implements Voluntary Education Programs for Military Service members. This rule includes educational programs that enable Service members to earn a degree on their off-duty time. Congress has held that men and women serving in the Armed Forces should have at least the same opportunity to advance academically as do civilians who remain outside the military.

Funding for Voluntary Education Programs is authorized by law and is subject to the availability of funds from each Service. Voluntary education programs include tuition assistance (TA) (per 10 U.S.C. 2007), which is administered uniformly across the Services. Subject to appropriations, each Service pays no more than $250.00 per semester-unit (or equivalent) for tuition. Each Service member participating in off-duty, voluntary education is eligible for up to $4,500.00, in aggregate, for each fiscal year. TA can only be used for courses offered by postsecondary institutions accredited by a national or regional accrediting body recognized by the U.S. Department of Education.

A March 2011 Government Accountability Office report on the DoD TA program recommended the Department take steps to enhance its oversight of schools receiving TA funds (available at http://www.gao.gov/new.items/d11300.pdf). As a result, an updated DoD Memorandum of Understanding (MOU) requirement was included in this rule, which is designated not only to improve Departmental oversight but also to account for our Service members' unique lifestyle requirements. The purpose of the DoD Voluntary Education Partnership MOU is to establish a partnership between the Department and institutions to improve educational opportunities while protecting the integrity of each institution's core educational values. This partnership serves to ensure a quality, viable program exists that provides an opportunity for our Service members to realize their educational goals, while allowing for judicious oversight of taxpayer dollars.

Background

The purpose of voluntary education programs is to provide active duty Service members with opportunities to enhance their academic achievement which in turn improves job performance and promotion potential. A final rule for DoD's Voluntary Education Programs was published in the Federal Register on December 6, 2012 (77 FR 72941-72956). The rule established the new requirement for a standardized memorandum of understanding (MOU) between DoD and the Institutions of Higher Learning (IHLs) before participating in DoD Voluntary Education Programs, such as the military tuition assistance program. As of February 3, 2014, 3,241 IHLs with a total of 4,229 sub-campuses have signed the DoD Voluntary Education Partnership MOU.

This new final rule includes requirements stated in the President's Executive Order 13607, “Establishing Principles of Excellence for Educational Institutions Servicing Service Members, Veterans, Spouses, and Other Family Members”, signed April 27, 2012 (available at http://www.gpo.gov/fdsys/pkg/FR-2012-05-02/pdf/2012-10715.pdf). In implementing the E.O., three interagency working groups were established (information, compliance, and report), along with an aggressive timeline to ensure that the policies take effect as soon as possible. The E.O. directed DoD to coordinate with the Departments of Veterans Affairs and Education, and in consultation with the Department of Justice and the Consumer Financial Protection Bureau, to implement and promote compliance with the principles stated in the E.O. Several of these principles were covered in the previous 2012 final rule; the remaining principles are now included in this final rule. The President requested the principles be implemented during school year 2013-2014.

New provisions in the final rule include:

• All educational institutions providing education programs through the DoD Tuition Assistance (TA) Program:

○ Will provide meaningful information to students about the financial cost and attendance at an institution so military students can make informed decisions on where to attend school.

○ Will not use unfair, deceptive, and abusive recruiting practices.

○ Will provide academic and student support services to Service members and their families.

• Implementation of rules to strengthen existing procedures for access to DoD installations by educational institutions.

• Requirement that DoD conduct an annual review and notification process if there are changes made to the uniform semester-hour (or equivalent) TA caps and annual TA ceilings.

• Requirement that the Military Departments provide their Service members with a joint services transcript (JST).

• Implementation of the DoD Postsecondary Education Complaint System for Service members, spouses, and adult family members to register student complaints.

• Authorization for the Military Departments to establish Service-specific TA eligibility criteria and management controls.

Public Comments

The Department of Defense published a proposed rule in the Federal Register (78 FR 49382-49400) on August 14, 2013, for a 45-day public comment period. Forty-four (44) public comment submissions were received which contained 123 comments that were reviewed and considered. The comments were grouped into related subject areas and addressed below.

Comment: Many commenters expressed concerns related to the requirement for educational institutions receiving tuition assistance to Federal student aid programs through the Department of Education under Title IV of the Higher Education Act of 1965. Concerns ranged from requests for clarification of Title IV-related requirements to removal of this requirement completely. Commenters identified the potential for increased tuition costs, increased student debt, and restricted education options as reasons for their dissent.

Response: This final rule is updated to clarify participation in Title IV as “certified to participate” and “Title IV certification may be provisional so long as the educational institution maintains eligibility to participate in the Federal Direct Loan Program.” We appreciate the comments received highlighting the potential impacts of instituting this requirement. However, the requirement for Title IV participation is part of the Defense Department's quality assurance program for higher education that is in direct support of the President's Executive Order 13607 and Principles of Excellence. Quality assurance includes not only the delivery of quality programs by educational institutions, but also the meeting of minimum requirements in the areas of financial/fiscal responsibility and administrative capability that demonstrate program integrity and the continued support for quality. In addition, there is an expectation that educational institutions will be participants in federal student aid loan and grant programs because the final rule requires them to provide a clear and complete explanation of available financial aid and application processes, to include Title IV student aid programs. We do recognize the application review and approval processes involved in becoming Title IV compliant may be lengthy; therefore, we are providing 18 months following the publication of this final rule in the Federal Register for educational institutions to successfully meet the Title IV requirement.

Comment: Multiple commenters requested clarification of requirements surrounding state authorization and/or approval. Commenters highlighted the difficulties presented by online education, distance education providers, transience of the military, and transition from military to civilian life in meeting state compliance requirements.

Response: We appreciate these comments and the final rule is amended at § 68(c)(6)(ii) and a new paragraph inserted at Appendix A 3(d) to clarify appropriate regulations issued by the Department of Education including 34 CFR 600.9, affirm compliance with state requirements expected for distance education, require program offerings and evaluated educational plans meet credentialing requirements in stated career field, and ensure graduates of program will be eligible to sit for relevant professional license or certification.

Comment: Many commenters expressed concern about the implementation of a complaint system without involving educational institutions in the complaint process. Commenters requested clarification on their participation in addressing complaints received, the process for resolving complaints, the types of complaints warranting Department actions, possible Department actions for legitimate complaints, and the protections for the educational institution to include notification and the ability to dispute findings.

Response: We agree and have amended the final rule at § 68.4(d)(2) to clarify that DoD will work with the educational institution to resolve complaints as appropriate. In addition, clarification is given for complaints that may elicit further review, referrals to other government agencies/regulators and potential penalties for recurring, substantive complaints or demonstrating an unwillingness to resolve complaints.

Comment: Many commenters requested clarification surrounding the requirement for Third Party Education Assessment. Commenters requested clarification on the assessment selection process, the types of findings warranting Department actions, and possible Department actions for unresolved findings.

Response: We agree and have amended the final rule at Appendix A 3(d) to illustrate occurrences that may elicit selection for a Third Party Education Assessment, provide potential penalties for demonstrating an unwillingness to resolve findings, and notify participants to the exchange of Third Party Education Assessment findings with other government agencies/regulators.

Comment: Multiple commenters requested clarification as to what “other Federal sources” would constitute a duplication of benefits specifying programs such as GI Bill and Federal Student Aid grants and loans.

Response: We appreciate these suggestions and have amended the final rule at § 68.6(a)(11) to specify, “TA will not be authorized for any course for which a Service member receives reimbursement in whole or in part from any other Federal source such as Veterans Education Benefits (GI Bill and other programs) and Service-funded programs (ROTC scholarship, education-related incentive or bonus, and advanced civil schooling) when the payment would constitute a duplication of benefits paid to that educational institution. Federal student aid loan, grant, and work-study programs will not be considered a duplication of benefit.”

Comment: Multiple commenters encouraged DoD to provide more flexibility regarding the amount of time between notification and implementation of tuition increases as many educational institutions are subject to rates set by state legislatures or state higher education entities. Clarification was requested on whether the notification was required in general or only for tuition increases that apply to students already enrolled. In addition, commenters suggested it is an intrusion of government into institutional governance to require institutions to provide justification for tuition increases asking for clarification on the method and timing of notification as well as the information required for justification.

Response: We recognize the timing of tuition change notifications affects all sectors of higher education, especially the public sector, where state legislatures or state higher education boards set the tuition rather than the institution. We also appreciate the suggestion that justification may require additional clarification. We have amended the final rule at Appendix A 4(f)(4) to replace “justified/justification” with “explained/explanation” and add the following clarification at Appendix A 4(f)(4)(b): “To the extent practicable by state law or regulation, Service members already enrolled will not be impacted.” We are working to centralize tuition change notification process using the existing DoD MOU application flow. Educational institutions should continue to notify the Services in accordance with Appendix A 4(f)(4) until the centralized process is available.

Comment: Multiple commenters expressed concern with the removal of references to “fees” as covered charges by TA funds. Commenters indicated that educational institutions follow no universal approach to the classification of costs as “fees” versus “tuition.” Thus, one institution may include certain costs in its “tuition,” while another institution may include those costs as an individual or separate fee. In addition, commenters suggested that the payment of tuition may penalize military students attending lower cost institutions, given costs/fees are often bundled, and discourage students from choosing educational institutions with low tuition that charge a variety of fees, particularly institutions that do not bundle their charges into a consolidated cost.

Response: We recognize that educational institutions take varied approaches when categorizing fees and costs. We have amended the final rule at § 68.6(a)(2)(ii)(D) and (E) to promote increased transparency by requiring educational institutions that bundle tuition, fees, or books into a consolidated cost to detail the charges of fees and books separately for Service members participating in the TA program. In addition, we provide examples of charges, not directly related to course instruction, that are considered fees for the purposes of participating in the TA program. Finally, we clarify that books not covered by TA funds include traditional book formats such as textbooks and reference or instructional materials but also non-traditional book formats such as ebooks and CDs/DVDs.

Comment: Some commenters suggested that allowing an educational institution to automatically enroll a student in classes removes unnecessary bureaucracy from the registration and enrollment process. Commenters requested clarification on what constitutes “automatic program renewals, bundling courses or enrollments” and whether the practice is a prohibited or discouraged.

Response: Educational institutions are asked to refrain from automatic program renewals in the final rule—this typically involves blocks/groupings of courses and automated, block registrations. We amended the final rule at Appendix A 3(k) to state “each course enrollment” signifying the course-by-course basis of TA approval in support of our position that bundling courses for registrations is not authorized. This is especially important with the high operational tempo of the force.

Comment: A few commenters requested clarification of the evaluated educational plan requirement to include distinguishing between “educational plan” and “evaluated educational plan” definitions and clarifying the time requirement for providing a new evaluated educational plan when a Service member has a Service education advisor approved change of educational goal or major at the educational institution. In addition, commenters requested the realignment of the paragraph which addresses accreditor approval for new courses or programs to a more appropriate section that discusses TA approval or eligible courses/programs.

Response: We amended the final rule at § 68.3 to remove the definition for educational plan and enhance the definition for evaluated educational plan to include reference to traditional educational institution nomenclature for this as a degree audit. In addition, we amended the final rule at Appendix A 4(c)(3) to add “within 60 days” clarifying the timeframe for completion of a new evaluated education plan due to a Service education advisor approved change of educational goal or major at the educational institution. Lastly, we moved the paragraph addressing accreditor approval for new courses or programs to Appendix A 3(l) in alignment with educational institution requirements for TA.

Comment: Multiple commenters expressed concern with the increased minimum grade standard at both the undergraduate and graduate levels. Commenters caution that the new minimum grade standards (“C” for undergraduate and “B” for graduate) exceed the grade standards traditionally accepted as passing at most educational institutions (“D” for undergraduate and “C” for graduate) and could potentially discourage military students from pursuing their postsecondary educational goals. In addition, commenters requested clarification on whether the calculation of the minimum grade point average (GPA) includes all courses, including those courses for which TA funds were not used.

Response: DoD is intentionally raising the bar regarding minimum grade by setting stricter minimum standards for coursework when a Service member is using TA funds as part of an overarching strategy to improve military student success. Military students are not traditional nor are they full-time students given their military duties and responsibilities. Historically, industry standard for graduation from undergraduate institutions is a minimum 2.0 average or “C” and maintaining at least a satisfactory GPA can be used to determine one is ready to advance to the class or next level. Tuition dollars and military student time is both limited and valuable so we want them to maintain focus and understanding expectation is critical. We amended the final rule at § 68.6(a)(10) to clarify that the GPA requirements for continued TA usage relate only to those courses funded with TA.

Comment: Multiple commenters requested clarification on Service-specific billing and payment requirements. Commenters asked for an explanation of the wide area work flow process for invoicing employed by both the Navy and Marine Corps. Commenters also expressed concern with the Air Force required acceptance of the Government Purchase Card and the associated removal of any option for waiver of this requirement when an educational institution does not accept credit card as a form of payment for tuition. Commenters requested reinstatement of the option for waiver.

Response: We amended the final rule at Appendix D 3(a) and Appendix E (2)(c)(3) providing a link (https://www.navycollege.navy.mil/links.aspx) that outlines the wide area workflow process employed by both the Navy and Marine Corps. We recognize the fiscal and administrative impacts of the educational institution surrounding the requirement to accept the Government Purchase Card, however, DoD supports the Services implementation of payment procedures that meet the specific needs of their Service TA program as they can and do differ. We appreciate the suggestion to reinstate the waiver and have partially granted this request by amending the final rule at Appendix A 2(b)(8) to specify, “Adopt the AI Portal procedures for all payment processing. Institutions with a current waiver may continue to participate at the discretion of Air Force Voluntary Education Branch.”

Comment: Multiple commenters requested clarification on transcripts that document military training and education. In addition, commenters representing Veteran & Military Service Organizations advocated for additional protections surrounding the award of academic credit for military training, education and experiences especially in the areas of credit acceptance and transfer disclosures.

Response: The Services will provide documentation of military training and education via the Joint Services Transcript (JST). The Community College of the Air Force (CCAF), as a regionally accredited educational institution, will issue separate transcripts. We agreed with the suggestion to strengthen disclosure statements related to credit acceptance and credit transfer and amended the final rule at Appendix A 3(n)(1) as follows: “Disclose its transfer credit policies and articulated credit transfer agreements before a Service member's enrollment. Disclosure will explain acceptance of credits in transfer is determined by the educational institution to which the student wishes to transfer and refrain from making unsubstantiated representations to students about acceptance of credits in transfer by another institution.”

Comment: Several commenters requested clarification on the minimum expectations for and intended recipient(s) of academic and student support services (all prospective students versus current military-related students). Commenters expressed concern that an extension of the full suite of academic and student support services to individuals not enrolled at the educational institution will likely pose an undue hardship on the educational institution in terms of adequate staffing and resources to support.

Response: Although academic and student support services offered to the general student population are highly encouraged, this requirement is intended to service military-connected students enrolled at the educational institution. We amended the final rule at § 68.4(d)(1)(iii) to clarify that academic and student support services specific to the institutions' programs are intended for all “enrolled” Service members, spouses and adult family members.

Comment: Many commenters requested clarification surrounding the requirement to provide meaningful information to students about the financial cost and attendance prior to enrollment. Commenters requested additional details on what constitutes “meaningful information” and the expectations for educational institutions to assess and report on “understanding” of the supported tools. In addition, several recommendations were provided to better define the supported tools.

Response: We agree and amended the final rule at Appendix A 3(f) to clarify, “Before enrolling a Service member, provide each prospective military student with specific information to locate, explain, and properly use the following ED and CFPB tools . . .”. We appreciate the suggestions provided to better define the supported tools and amended the final rule at Appendix A 3(f)(1-4). In addition, we added The College Navigator as a supported tool in anticipation of student outcome measures reporting directed in support of the President's Executive Order 13607 and Principles of Excellence.

Comment: Many commenters requested clarification surrounding the requirement to return unearned TA funds. Concerns ranged from requests for clarification of the base date for calculation purposes (start of term date versus course start date) to removal of this requirement completely. Commenters identified the misunderstanding of rules as they apply to returning Title IV funds, infringing on the rights of the educational institution to determine their own refund policy, and increased student debt and collections resulting from a difference between the Title IV return policy as reasons for their dissent.

Response: The requirement to align institutional refund policies with the refund of unearned student aid rules under Title IV comes directly from of language in President's Executive Order 13607. We appreciate the numerous suggestions received, intricate explanations and examples of associated restrictions, and concerns expressed for potential unintended consequences. We agree that the complexities involved with this requirement were not fully understood. We coordinated an alternative approach to meet the intent of the President's Executive Order 13607 language and amended the final rule at Appendix A 4(f)(2) requiring the return of unearned TA funds on a proportional basis through at least the 60 percent portion of the course.

Comment: Many commenters requested clarification on restrictions surrounding the use of lead generators and more details as to what constitutes aggressive marketing and misrepresentation. Commenters expressed a concern that almost all education institutions use third party lead generators and, in some cases, prohibiting them conflicts with existing Department of Education rules. Concerns related to misrepresentation ranged from requests for the number of unsolicited contacts indicative of aggressive marketing to an explanation of what constitutes “unfair, deceptive, and abusive” practices and whether basic program brochures and catalogs fell into this category.

Response: We amended the final rule at Appendix A 3(j), reorganizing the information surrounding “unfair, deceptive, and abusive” practices to clarify restrictions and provide examples to enhance understanding. In addition, we articulate the entities subject to these requirements extend beyond traditional employees to agents of the educational institution, providing examples such as third party lead generators and marketing firms to address parties of particular concern to the Department. We also amended the final rule at § 68.3 to define educational institution agent and this term is incorporated throughout the final rule as appropriate. Further, we amended the final rule at § 68.6(c)(1) to clarify that certain educational institution materials available through the education center are permissible and will not be considered personal commercial solicitation.

Comment: Many commenters expressed concerns surrounding educational institution access to military installations. Concerns ranged from requests for clarification on the types of installation access prohibited to an explanation of what constitutes a military installation and who may be granted access. Commenters expressed concern with the restrictions on third party access as they advocated that third parties representing educational institutions should be permissible under the auspices of local contract and installation-specific agreements. Commenters also expressed numerous concerns that the restrictions, as written, may have the unintended consequence of limiting the opportunity for Service members to achieve their education goals.

Response: We appreciate the many comments received highlighting the potential impacts of increased restrictions on educational institution access to our military installations. However, the requirement to establish new uniform rules and strengthen existing procedures for access to military installations by education institutions is in direct support of the President's Executive Order 13607 and Principles of Excellence. We recognize additional explanation of these requirements is needed and amended the final rule at § 68.6(c) and (d) to clarify requirements surrounding purpose of access, individuals eligible for access, and associated request and reporting procedures. In addition, we articulate the entities subject to these requirements extend beyond traditional employees to agents of the educational institution. Further, we amended the final rule at § 68.3 to define DoD installation and this term is incorporated throughout the final rule as appropriate.

Comment: One commenter requested clarification on whether ALL institutions must sign the revised DoD MOU within 60 days of posting regardless of an existing, signed MOU.

Response: We affirm that the final rule at § 68.6(a)(16) is accurate requiring all educational institution home campuses to sign the revised MOU with DoD not earlier than 60 days from final rule publication in the Federal Register. We amended the final rule at Appendix A (3)(a)(1)(a) to clarify the expiration of the current MOU is considered a renewal.

Comment: One commenter recommended removal of the requirement for educational institutions to be accredited by a national or regional accrediting body recognized by the Department of Education identifying the considerable costs, restricted education options, and alternative of State Approving Agency approval as reasons for their dissent.

Response: The requirement for accreditation is not being removed. The accreditation requirement is part of the Defense Department's quality assurance program for higher education that is in direct support of the President's Executive Order 13607 and Principles of Excellence.

Comment: Multiple commenters requested clarification on reporting requirements, student outcome measures, and inclusion of TA funds in the 90/10 Rule as reported to Department of Education by educational institutions.

Response: We amended the final rule at Appendix A 4(i) to set a timeliness expectation and reflect “report” vice “list,” better enabling the electronic submission to meet this requirement. Comments requesting the inclusion of requirements related to student outcome measures and the inclusion of TA funds in the 90/10 rule are noted. The Department is prepared to incorporate requirements as directed by legislation or as deemed appropriate by the Department in support of Voluntary Education Programs.

Comment: One commenter recommended the use of “educational” vice “academic” in the terms, associated definitions, and references to academic institution and academic institution representative throughout the document to promote consistency.

Response: This comment was accepted and we amended the final rule at § 68.3 to utilize educational institution and educational institution representative. These terms have likewise been incorporated throughout the final rule as appropriate.

Comment: One commenter highlighted two (2) incorrect references to Department of Education regulations.

Response: This comment was accepted and we amended the final rule at Appendix A 3(1)(2) and Appendix A 3(j) to reference the correct regulations.

Regulatory Procedures

Executive Order 12866, “Regulatory Planning and Review” and Executive Order 13563, “Improving Regulation and Regulatory Review”

It has been certified that 32 CFR part 68 is an economically significant regulatory action. The rule has an annual effect on the economy of $100 million or more.

The rule does not:

(1) Adversely affect in a material way the economy; a section of the economy; productivity; competition; jobs; the environment; public health or safety; or State, local, or tribal governments or communities;

(2) Create a serious inconsistency or otherwise interfere with an action taken or planned by another Agency;

(3) Materially alter the budgetary impact of entitlements, grants, user fees, or loan programs, or the rights and obligations of recipients thereof; or

(4) Raise novel legal or policy issues arising out of legal mandates, the President's priorities, or the principles set forth in these Executive Orders.

Funding for Voluntary Education Programs is authorized by law and is subject to the availability of funds from each Service. Voluntary education programs include tuition assistance (per section 2007 of title 10, United States Code), which is administered uniformly across the Services. Each Service pays no more than $250.00 per semester-unit (or equivalent) for tuition. Each Service member participating in off-duty, voluntary education is authorized up to $4,500.00, in aggregate, for each fiscal year. As per the National Defense Authorization Act (NDAA) FY08, each of the Services may also provide TA to activated Service members of the Selected Reserves and Individual Ready Reserve. Tuition assistance costs for Service members participating in high school completion and accredited undergraduate or graduate education programs totaled approximately $562 million in FY11, $568 million in FY12 and $540 million in FY13. During FY11, 325,324 Service members received TA for 866,788 courses. During FY12, 286,665 Service members received TA for 874,094 courses and in FY13, 277,872 Service members received TA for 827,176 courses. A total of 45,220 degrees/diplomas/certificates were earned in FY11, 50,497 in FY12 and 55,792 in FY13. Operational costs totaled approximately $102 million in FY11, $92 million in FY12, and $84 million in FY13. Operational costs for DoD Voluntary Education Programs include such items as salaries, TDY, training, supplies, and equipment.

Funding for the new E.O. 13607 requirement to establish a DoD complaint system for students receiving Federal military educational benefits, such as military tuition assistance, included approximately $13,500 for the estimated labor cost to DoD and approximately $400,000 to build the system.

Congressional Review Act, 5 U.S.C. 801

We estimate that this rulemaking is “economically significant” as measured by the $100 million threshold and, hence, also a major rule under the Congressional Review Act. Accordingly, we have prepared a regulatory impact analysis that, to the best of our ability, presents the costs and benefits of the rulemaking.

Sec. 202, Pub. L. 104-4, “Unfunded Mandates Reform Act”

It has been certified that 32 CFR part 68 does not contain a Federal mandate that may result in expenditure by State, local and tribal governments, in aggregate, or by the private sector, of $100 million or more in any one year.

Public Law 9§ 6-354, “Regulatory Flexibility Act” (5 U.S.C. 601)

It has been certified that 32 CFR part 68 is not subject to the Regulatory Flexibility Act (5 U.S.C. 601) because it would not, if promulgated, have a significant economic impact on a substantial number of small entities. The rule updates policy and procedures for the voluntary education programs within DoD for Service members and their adult eligible family members. Guidance on voluntary education programs is available through the Education Centers located on DoD installations.

Public Law 96-511, “Paperwork Reduction Act”

It has been certified that 32 CFR part 68 does impose reporting or recordkeeping requirements under the Paperwork Reduction Act of 1995. The requirements for the new student complaint system were approved by the Office of Management and Budget and assigned OMB Control Number 0704-0501, “Postsecondary Education Complaint Intake System.”

Executive Order 13132, “Federalism”

It has been certified that 32 CFR part 68 does not have federalism implications, as set forth in Executive Order 13132. This rule does not have substantial direct effects on:

(1) The States;

(2) The relationship between the National Government and the States; or

(3) The distribution of power and responsibilities among the various levels of Government.

List of Subjects in 32 CFR Part 68

Adult education, Armed forces, Colleges and universities, Education, Educational study programs, Government contracts, Military personnel, Student aid.

Accordingly, 32 CFR part 68 is revised to read as follows:

PART 68—VOLUNTARY EDUCATION PROGRAMS

Sec.
68.1 Purpose.
68.2 Applicability.
68.3 Definitions.
68.4 Policy.
68.5 Responsibilities.
68.6 Procedures.
Appendix A to Part 68—DoD Voluntary Education Partnership Memorandum of Understanding (MOU) Between DoD Office of the Under Secretary of Defense for Personnel and Readiness (USD(P&R)) and [Name of Educational Institution]
Appendix B to Part 68—Addendum for Education Services Between [Name of Educational Institution] and the U.S. Air Force (USAF)
Appendix C to Part 68—Addendum for Education Services between [Name of Educational Institution] and the U.S. Army
Appendix D to Part 68—Addendum for Education Services between [Name of Educational Institution] and the U.S. Marine Corps
Appendix E to Part 68—Addendum for Education Services between [Name of Educational Institution] and the U.S. Navy

Authority: 10 U.S.C. 2005, 2007.

§ 68.1 Purpose.

This part:

(a) Implements policy, assigns responsibilities, and prescribes procedures for the operation of voluntary education programs in the DoD.

(b) Establishes policy stating the eligibility criteria for tuition assistance (TA) and the requirement for a memorandum of understanding (MOU) from all educational institutions providing educational programs through the DoD TA Program.

(c) Establishes policy that:

(1) All educational institutions providing education programs through the DoD Tuition Assistance (TA) Program:

(i) Will provide meaningful information to students about the financial cost and attendance at an institution so military students can make informed decisions on where to attend school.

(ii) Will not use unfair, deceptive, and abusive recruiting practices.

(iii) Will provide academic and student support services to Service members and their families.

(2) Creates rules to strengthen existing procedures for access to DoD installations by educational institutions.

(3) Requires an annual review and notification process of uniform semester-hour (or equivalent) TA caps and annual TA ceilings.

(4) Requires the Military Departments to provide their Service members with a joint services transcript (JST).

(5) Implements the DoD Postsecondary Education Complaint System for Service members, spouses, and adult family members to register student complaints.

(6) Authorizes the Military Departments to establish Service-specific TA eligibility criteria and management controls.

(d) Establishes the Interservice Voluntary Education Board.

§ 68.2 Applicability.

This part applies to the Office of the Secretary of Defense, the Military Departments, the Office of the Chairman of the Joint Chiefs of Staff and the Joint Staff, the Combatant Commands, the Office of the Inspector General of the DoD, the Defense Agencies, the DoD Field Activities, and all other organizational entities within the DoD (referred to collectively in this part as the “DoD Components”).

§ 68.3 Definitions.

The following terms and their definitions are for the purpose of this part:

Academic. Relating to education, educational studies, an educational institution, or the educational system.

Academic skills. Competencies in English, reading, writing, speaking, mathematics, and computer skills that are essential to successful job performance and new learning. Also referred to as functional or basic skills.

Active Guard and Reserve (AGR). National Guard or Reserve members of the Selected Reserve (SELRES) who are ordered to active duty or full-time National Guard duty for a period of 180 consecutive days or more for the purpose of organizing, administering, recruiting, instructing, or training the Reserve Component (RC) units or duties as prescribed in 10 U.S.C. 12310. All AGR members must be assigned against an authorized mobilization position in the unit they support. (Includes Navy full-time support (FTS), Marine Corps Active Reserve (ARs), and Coast Guard Reserve Personnel Administrators (RPAs)).

American Council on Education (ACE). The major coordinating body for all of the Nation's higher education institutions. Seeks to provide leadership and a unifying voice on key higher education issues and publishes the “Guide to the Evaluation of Educational Experiences in the Armed Services.”

Annual TA Ceiling. The maximum dollar amount authorized for each Service member for TA per fiscal year. Each Service member participating in off-duty voluntary education programs will be entitled to the full amount authorized each fiscal year in accordance with DoD policy.

Army/American Council on Education Registry Transcript System. A document sent directly from the Army American Council on Education Registry Transcript System Center to the educational institution to articulate a soldier's military experience and training and the American Council on Education-recommended college credit for this training and experience. The JST consolidates data from the legacy Army/ACE Registry Transcript System.

Degree requirements. A document provided by the educational institution that outlines required courses and conditions to complete an educational program. The document presents the general education, major-related, and elective course requirements, degree competencies (e.g., foreign language, computer literacy), and other requirements (e.g., examination, thesis, dissertation, practicum, grade point average, credits by course level, or academic residency) for the specified program of study. This document becomes the basis for the evaluated educational plan.

DoD Installation. For the purposes of this Instruction, any active duty military, Reserve or National Guard owned, leased, or operated base, reservation, post, site, camp, building, or other facility to which DoD personnel are assigned for duty.

Education advisor. A professionally qualified, subject matter expert or program manager in the Education Services Series 1740 or possessing equivalent qualifications at the education center. The following position titles may also be used for an education advisor: Education Services Specialist, Education Services Officer (ESO), Voluntary Education Director, Navy College Office Director, and Education and Training Section (ETS) Chief.

Education center. A DoD installation facility, including office space, classrooms, laboratories, or other features, that is staffed with professionally qualified personnel and to conduct voluntary education programs. This may be located at an active duty military installation, Reserve and National Guard facility (state readiness center, armory, unit, etc.), or recruiting center (leased space inside a shopping mall or office building). For Navy, this is termed the “Navy College Office.”

Educational institution. A college, university, or other institution of higher education. For the purposes of this Instruction, the parent/home/main campus and any sub-campuses included in the signed MOU with DoD.

Educational institution agent. A lawful agent of the educational institution is limited to persons who have written authorization to act on behalf of the educational institutions.

Educational institution representative. An employee of the educational institution.

Eligible adult family member. The adult family member, over the age of 18, of an active duty, Reserve, National Guardsman, or DoD civilian with a valid DoD identification card.

Evaluated educational plan. An individualized official academic document provided by the educational institution that:

(1) Articulates all degree requirements for degree completion or in the case of a non-degree program, all educational requirements for completion of the program;

(2) Identifies all courses required for graduation in the individual's intended academic discipline and level of postsecondary study; and

(3) Includes an evaluation of all successfully completed prior coursework, and evaluated credit for military training and experience, and other credit sources applied to the institutional degree requirements. At a minimum, the evaluated educational plan will identify required courses and where appropriate, College Level Examination Program, DSST (formerly known as the DANTES Subject Standardized Tests) Program, and potential American Council on Education recommended college credits for training and experiences. For participating SOC Degree Network System institutions, the SOC Degree Network System Student Agreement serves as this evaluated educational plan. For some educational institutions this may be termed a degree audit.

Individual Ready Reserve (IRR). A manpower pool consisting principally of individuals who have had training, have previously served in the Active Component or in the SELRES, and have some period of their military service obligation or other contractual obligation remaining. Some individuals volunteer to remain in the IRR beyond their military service or contractual obligation and participate in programs providing a variety of professional assignments and opportunities for earning retirement points and military benefits.

Joint services transcript (JST). An official education transcript tool for documenting the recommended ACE college credits for a variety of professional military education, training courses, and occupational experience of Service members across the Services. The JST consolidates data from legacy documents such as the Army/ACE Registry Transcript System, the Sailor/Marine ACE Registry Transcript System, the Community College of the Air Force transcript, and the Coast Guard Institute transcript.

Needs assessment. A process used to determine the staffing requirements, course offerings, size of facilities, funding, or other standards for delivery of educational programs.

Off-duty. Time when the Service member is not scheduled to perform official duties.

Ready Reserve. Composed of military members of the Reserve and National Guard, organized in units or as individuals, or both, and liable for involuntary order to active duty in time of war or national emergency pursuant to 10 U.S.C. 12310 and 12301 and 14 U.S.C. 712 in the case of members of the Coast Guard Reserve. The Ready Reserve consists of the SELRES, the IRR, and the Inactive National Guard.

Sailor/Marine American Council on Education Registry Transcript System. A document sent directly from the Sailor/Marine ACE Registry Transcript System Operations Center to the educational institution to articulate a Sailor's or Marine's military experience and training and the American Council on Education recommended college credit for this training and experience. The JST consolidates data from the legacy Sailor/Marine ACE Registry Transcript System.

Semester-hour TA cap. The maximum dollar amount authorized for TA per semester-hour (or equivalent) credit. A Service will pay no more than the established DoD cap per semester-unit (or equivalent) for tuition.

Servicemembers Opportunity Colleges (SOC). A consortium of over 1,800 colleges and universities, created in 1972 that seeks to enhance the educational opportunities to Service members who may have difficulty in completing college programs due to frequent military moves.

Third Party Education Assessment. A third-party evaluation of voluntary education programs covered by the DoD Voluntary Education Partnership MOU.

Top-Up. An option, under the Montgomery G.I. Bill and the Post-9/11 G.I. Bill, that enables active duty Service members and certain Reservists to receive from the VA those tuition costs that exceed or are not authorized in the amount of TA provided to the Service member by his or her Service. Entitlement is charged differently depending on which G.I. Bill program a Service member uses. The Montgomery G.I. Bill entitlement is charged based on the dollar amount of benefits VA pays to the individual. The Service member will be charged one month of entitlement for each payment received that is equal to the full-time monthly rate for the Montgomery G.I. Bill. The Post-9/11 entitlement is charged based on the enrolled amount of time and the individual's rate of pursuit during the period of enrollment. If a Service member is attending classes part-time or at the 1/2 time level, the charge is 1/2 month of Post-9/11 G.I. Bill benefits for each month enrolled and receiving G.I. Bill benefits.

Troops-to-Teachers program (TTT). A DoD program to assist transitioning Service members and veterans in meeting the requirements necessary to become a teacher and facilitating their subsequent employment.

Tuition assistance (TA). Funds provided by the Military Services or U.S. Coast Guard to pay a percentage of the charges of an educational institution for the tuition of an active duty, Reserve or National Guard member of the Military Services, or Coast Guard member, enrolled in approved courses of study during off-duty time.

Voluntary education programs. Continuing, adult, or postsecondary education programs of study that Service members elect to participate in during their off-duty time, and that are available to other members of the military community.

§ 68.4 Policy.

It is DoD policy, consistent with DoD Directive 1322.08E, “Voluntary Education Programs for Military Personnel” (available at http://www.dtic.mil/whs/directives/corres/pdf/132208p.pdf), that:

(a) Members of the Military Services serving on active duty and members of the Selected Reserve (SELRES) will be afforded the opportunity to complete their high school education through a state-funded or Service component sponsored program; earn an equivalency diploma, improve their academic skills or level of literacy, enroll in career and technical education schools, receive college credit for military training and experience in accordance with the American Council on Education (ACE) Guide to the Evaluation of Educational Experiences in the Armed Services (available at http://www.acenet.edu/news-room/Pages/Military-Guide-Online.aspx), take tests to earn college credit, and enroll in postsecondary education programs that lead to industry-recognized credentials, and undergraduate and graduate degrees.

(b) Service members' costs to participate in the DoD Voluntary Education Program as authorized by 10 U.S.C. 2007, will be reduced through financial support, including TA that is administered uniformly across the Military Services. On an annual basis and no later than the end of the second quarter of the fiscal year, the Under Secretary of Defense for Personnel and Readiness (USD(P&R)), in coordination with the Military Departments, will review the uniform semester-hour (or equivalent) TA caps and annual TA ceilings to determine possible changes for the upcoming fiscal year. If there are any changes in the uniform semester-hour (or equivalent) caps and annual TA ceilings, a memorandum will be released from the USD(P&R), in coordination with the Military Departments, and a corresponding notice will be published in the Federal Register.

(c) Professional education counseling will be readily available and easy to access so that Service members can make informed decisions concerning available educational opportunities and benefits. Education counseling will be provided by qualified professional (Education Services Series 1740 or an individual with equivalent qualifications) in sufficient numbers to operate voluntary education programs as determined by individual Service standards.

(d) In accordance with Executive Order (E.O.) 13607:

(1) Educational institutions receiving funding from federal military educational benefits programs, such as the DoD TA Program, will:

(i) Provide meaningful information to students on the financial cost and attendance at an educational institution so military students can make informed decisions on where to attend school as stated in section 3 of Appendix A.

(ii) Prevent unfair, deceptive, and abusive recruiting practices that target Service members as defined by the Dodd-Frank Wall Street Reform and Consumer Protection Act and as stated in section 3 of Appendix A.

(iii) Provide academic and student support services specific to the institutions' programs to all enrolled Service members, spouses and adult family members.

(2) DoD will implement a centralized online complaint system for Service members, spouses, and adult family members that will register, track, and respond to student complaints. DoD or the assigned Military Service will work with educational institutions to resolve any filed complaints. Educational institutions having recurring, substantive complaints or demonstrating an unwillingness to resolve complaints may face a range of penalties from a directed Third Party Education Assessment to revocation of the DoD Voluntary Education Partnership MOU and removal from participation in the DoD TA Program. As appropriate, DoD will refer student complaints to other government agencies/regulators including but not limited to the Federal Trade Commission (FTC), Department of Justice (DOJ), Consumer Financial Protection Bureau (CFPB), Department of Veterans Affairs (VA), and Department of Education (ED).

(e) Educational institutions accredited by a national or regional accrediting agency recognized by ED will be encouraged to provide degree programs on DoD installations and the Military Services will facilitate their operations on the DoD installations referred to in § 68.6(c).

(f) To the extent that space is otherwise available, eligible adult family members of Service members, DoD civilian employees and their eligible adult family members, and military retirees may enroll in postsecondary education programs offered on a DoD installation at no cost to the individual Service TA programs.

§ 68.5 Responsibilities.

(a) The USD(P&R) will:

(1) Monitor implementation of and ensure compliance with this part and DoD Directive 1322.08E.

(2) Establish rates of TA and ensure uniformity across the Military Services as required by DoD Directive 1322.08E and this part. The uniform semester-hour (or equivalent) TA caps and annual TA ceilings will be reviewed annually and if changed, a memorandum from the USD(P&R) will be released following coordination with each of the Military Departments. Additionally, if the uniform TA rates are changed, a notice will be published in the Federal Register at approximately the start of the fiscal year.

(3) Establish, under the provisions of DoD Instruction 5105.18, “DoD Intergovernmental and Intragovernmental Committee Management Program” (available at http://www.dtic.mil/whs/directives/corres/pdf/510518p.pdf), the Interservice Voluntary Education Board, which will be composed of full-time or permanent part-time federal employees.

(4) Maintain a program to assess the effectiveness of the voluntary education programs.

(5) Issue written supplemental guidance annually for the funding and operation of the Defense Activity for Non-Traditional Education Support (DANTES) for those items not reflected in paragraph (f) of § 68.6.

(b) The Assistant Secretary of Defense for Readiness and Force Management (ASD(R&FM)), under the authority, direction, and control of the USD(P&R) will:

(1) Provide administrative assistance to the Deputy Assistant Secretary of Defense for Military Community and Family Policy (DASD(MCFP)), in support of the voluntary education programs.

(2) Respond to matters that are referred by the DASD(MCFP).

(c) The DASD(MCFP), under the authority, direction, and control of the ASD(R&FM), will:

(1) Monitor compliance with this part and DoD Directive 1322.08E and related issuances by personnel under his or her authority, direction, and control.

(2) Oversee the DoD Voluntary Education Program.

(3) Provide ongoing and routine clarifying guidance for the DoD Voluntary Education Program.

(4) Provide representatives to professional education and cross-agency panels addressing issues impacting the DoD Voluntary Education Program, its regulatory scope, clientele, and partners.

(5) Designate the Voluntary Education Chief within the Office of the DASD(MCFP) as the Chair of the Interservice Voluntary Education Board and oversee implementation of Board and DANTES procedures as detailed in § 68.6 of this part.

(6) Oversee the DoD Postsecondary Education Complaint System through which Service members, spouses, and adult family members receiving federal military and veterans educational benefits can register on-line complaints that will be tracked and responded to by DoD, VA, ED, CFPB, DOJ, FTC, and other relevant agencies. The DoD Postsecondary Education Complaint System is web-based and accessible on-line at https://afaems.langley.af.mil/pecs/DoDPECS. This complaint system contains the uniform procedures for the processing of the complaint intake (DD Form 2961, “DoD Postsecondary Education Complaint Intake”).

(7) Oversee the Third-Party Education Assessment, which is a third party review process to assess the quality, delivery, and coordination of the voluntary education programs provided to military personnel on the DoD installation, in the community, and via distance learning (DL). It assists in improving the quality of the delivery of these programs through recommendation to educational institutions, DoD installations, and the Military Services. DASD(MCFP) will monitor actions:

(i) By the Military Services to resolve recommendations for improvement identified on the respective Military Service's installation during the Third Party Education Assessment.

(ii) By the DoD Voluntary Education Chief to resolve recommendations for improvement concerning educational institutions operating off the DoD installation or via DL identified during Third Party Education Assessments. These educational institutions will provide corrective actions taken within 6 months of the assessment to the DoD Voluntary Education Chief. In instances when the issue cannot be resolved within the 6 month timeframe, the educational institution will submit a status report every 3 months to the DoD Voluntary Education Chief until the recommendation is resolved.

(8) Prepare written supplemental guidance annually for the USD(P&R) regarding the funding and operation of DANTES for those items not reflected in paragraph (f) of § 68.6.

(9) Oversee the policy of the JST.

(d) The Assistant Secretary of Defense for Reserve Affairs (ASD(RA)), under the authority, direction, and control of the USD(P&R), will:

(1) Monitor compliance with this part and DoD Directive 1322.08E and related issuances by personnel under his or her authority, direction, and control.

(2) Appoint a representative to serve on the Interservice Voluntary Education Board.

(3) Arrange the assignment of, on a rotating basis, a field grade officer, to serve as the RC Advisor to the Voluntary Education Chief and a representative on the Interservice Voluntary Education Board.

(e) The Secretaries of the Military Departments will:

(1) Monitor compliance with this part and DoD Directive 1322.08E and related issuances by personnel under their respective authority, direction, and control.

(2) Establish, maintain, coordinate, and operate voluntary education programs that encompass a broad range of educational experiences including, but not limited to, academic skills development, high school completion programs, vocational programs, career and technical programs, and programs leading to the award of undergraduate and graduate degrees.

(3) Require that sufficient funding is available to provide Service members with TA support consistent with the requirements in § 68.6 and appendices A, B, C, D, and E to this part.

(4) Require that educational counseling is available to Service members so they will have sufficient information and guidance to plan an appropriate program of study. Educational counseling will be provided by qualified professional (Education Services Series 1740 or an individual with equivalent qualifications) individuals.

(5) Require that voluntary education programs participate in the DoD-established third-party review process titled the Third Party Education Assessment.

(i) Within 6 months of the Third Party Education Assessment on their installation, the responsible Military Service will resolve recommendations received as a result of the assessment and provide the resolutions to the DoD Voluntary Education Chief. In instances when the issue cannot be resolved within the 6 month timeframe, the Military Service will submit a status report every 3 months to the DoD Voluntary Education Chief until the recommendation is resolved.

(ii) If the recommendation(s) requires involvement of an educational institution operating on their respective installation, the Military Service will coordinate the submission of corrective actions taken by the educational institution(s) through the appropriate Education Advisor, and forward the submission through their respective Military Service leadership to the DoD Voluntary Education Chief.

(iii) Waivers to the Third Party Education Assessment must be submitted to and approved by the DoD Voluntary Education Chief.

(6) Provide one representative to serve on the Interservice Voluntary Education Board responsible for their Services' voluntary education policy from each of the following Military Services: Army, Navy, Air Force, and Marine Corps. Each Service representative's membership will be on a permanent basis and changed only when their voluntary education policy position is changed.

(7) Assign, on a rotating basis, a senior enlisted Service member in the military pay grade E-9 to serve as the DANTES enlisted advisor.

(8) Assign, on a rotating basis, a field-grade officer to serve as the DANTES RC advisor.

(9) Require that military test control officers and test centers comply with the guidance and procedures published in the DANTES Examination Program Handbook, available at http://www.dantes.doded.mil/Programs/Docs/DEPH_part1.pdf.

(10) Require that personnel who provide counseling, advice, and program management related to voluntary education programs have access to the DoD Voluntary Education homepage and other Web sites so they can provide current and accurate information to Service members.

(11) Provide opportunities for Service members to access the Internet, where available, to enroll in and complete postsecondary courses that are part of their evaluated educational plan leading to an educational goal.

(12) Submit requested quarterly and annual information for the Voluntary Education Management Information System (VEMIS) by the 20th day of the month after the end of each fiscal quarter for the quarterly reports and November 15th each year for the annual report. Reporting information includes, but is not limited to, voluntary education program data on enrollments, participation, and costs.

(13) Respond to and resolve Service-specific student complaints received and managed through the DoD Postsecondary Education Complaint System.

(14) Provide Service members with a JST. At a minimum, the JST will include documented military student data, courses, and military occupations evaluated by ACE, including descriptions, learning outcomes, and equivalent college credit recommendations, as well as national college-level exam results. The U.S. Air Force (USAF) will continue to use the Community College of the Air Force (CCAF) to document its members' academic and military credit.

(f) Secretary of the Navy. The Secretary of the Navy, as the DoD Executive Agent (DoD EA) for DANTES pursuant to DoD Directive 1322.08E and DoD Directive 5101.1, “DoD Executive Agent” (available at http://www.dtic.mil/whs/directives/corres/pdf/510101p.pdf), and in addition to the responsibilities in this section, will:

(1) Transmit supplemental annual guidance issued by the USD(P&R) to DANTES for those items not reflected in paragraph (f) of § 68.6.

(2) Require that the Director, DANTES, provide updates on DANTES plans, operations, and activities to the USD(P&R).

(3) Through its civilian personnel system, advertise the position of Director, DANTES, when the position is vacated and appoint the Director, DANTES, in accordance with the procedures outlined in § 68.6.

§ 68.6 Procedures.

(a) TA for Service members participating in education programs. (1) TA will be available for Service members participating in high school completion and approved courses from accredited undergraduate or graduate education programs or educational institutions. Approved courses are those that are part of an identified course of study leading to a postsecondary certificate or degree and non-degree oriented language courses integral to the Defense Language Transformation Roadmap (available at http://www.defense.gov/news/Mar2005/d20050330roadmap.pdf).

(i) Use of TA for non-degree oriented language courses is limited to those published by the Under Secretary of Defense (P&R) on the DoD Strategic Language List.

(ii) Dominant-in-the-force languages and languages deemed by DoD as already having sufficient strategic capacity will not be funded under 10 U.S.C. 2007, except for assignments outside the continental United States.

(2) TA will be applied as follows:

(i) For 100 percent of the cost of approved high school completion programs for Service members who have not been awarded a high school or equivalency diploma and who are enrolled in such programs.

(ii) In support of the voluntary education of active duty Service members during their off-duty periods, each Military Service will pay all or a portion, as specified in paragraphs (a)(2)(ii)(A) through (F) of this section, of the charges of an educational institution for education during the member's off-duty periods. TA funding will only be paid to educational institutions accredited by an accrediting organization recognized by ED, approved VA funding, and certified to participate in federal student aid programs through the ED under Title IV of Public Law 89-329, also known and referred to in this part as the Higher Education Act of 1965. Whenever ED withdraws the recognition of any accrediting agency, an institution of higher education that meets the requirements of accreditation, eligibility, and certification on the day before such withdrawal, may, notwithstanding the withdrawal, continue to participate in the TA program for a period not to exceed 18 months from the date of the withdrawal of recognition.

(A) When an educational institution's charges are equal to or less than the established cap per semester-hour of credit or its equivalent, the responsible Service will pay the entire amount charged by the educational institution. In computing credit equivalency, the following conversions will apply: 1 quarter-hour credit = 2/3 semester-hour credit; and 45 contact hours will be considered equivalent to 1 semester-hour credit when neither semester- nor quarter-hours are specified for the education for which the Service member is enrolled.

(B) When an educational institution's charges exceed the established cap per semester-hour of credit, or its equivalent, the responsible Service, will pay no more than the established cap per semester-unit (or equivalent) for tuition.

(C) Each Service member participating in off-duty, voluntary education will be allowed no more than the established annual ceiling, in aggregate, for each fiscal year.

(D) Covered charges include those that are submitted to the Service by the educational institution for tuition only. Educational institutions that bundle tuition, fees, or books into a consolidated cost must detail the charges of fees and books separately for Service members participating in the TA program. Fees include any charge not directly related to course instruction including but not limited to costs associated with room, board, distance learning, equipment, supplies, books/materials, exams, insurance, parking, transportation, admissions, registration, or fines.

(E) TA funds are not to be used for the purchase of books to include textbooks, ebooks, CDs/DVDs, or reference or instructional materials. Additionally, institutional education revenue generated from military TA funds cannot be used to support textbook grants or scholarships.

(F) To be eligible to receive TA, a Service member must meet the minimum requirement of successfully completing basic training. RC members are exempt from the requirement to first attend basic training before authorized to receive TA. Additional, respective Service requirements must be met to include training qualification, unit assignment, and time in service criteria.

(iii) The TA rate, credit-cap, and annual per capita ceiling, will be reviewed annually in consideration of inflation and other effects, and will be applicable uniformly whether instruction is delivered traditionally in-the-classroom or through distance education. Rates of TA other than as identified in paragraphs (a)(2)(ii)(A) through (F) of this section are not authorized.

(3) Service-specific TA eligibility requirements. (i) Service-specific eligibility criteria and management controls are determined by each Military Service.

(ii) Service-specific TA eligibility criteria and management controls may include, but are not limited to, applying TA:

(A) For courses leading to a certificate or required for a credentialing program. All payments for courses must comply with the allowable caps and ceilings.

(B) For graduate studies through the master's degree level. All payments for courses must comply with the allowable caps and ceilings.

(C) For same level degrees, subject to the availability of funds. However, TA is primarily intended to raise the academic degree level of the Service member.

(4) TA is available to a commissioned officer on active duty, other than an officer serving in the Ready Reserves (addressed in paragraphs (a)(5)(i) and (a)(6)(i) of this section), only if the officer agrees to remain on active duty, for a period of at least 2 years after the completion of the education or training for which TA was paid (see 10 U.S.C. 2007).

(5) The Secretary of the Military Department concerned may only make TA available to a member of the SELRES, pursuant to 10 U.S.C. 2007, under the following conditions:

(i) In the case of a commissioned officer, the officer must agree to remain a member of the SELRES for at least 4 years after completion of the education or training for which TA is paid.

(ii) In the case of an enlisted member, the Secretary concerned may require the member of the SELRES to enter into an agreement to remain a member of the SELRES for up to 4 years after completion of the education or training for which TA is paid.

(6) The Secretary of the Military Department concerned may only make TA available to a member of the IRR who has a military occupational specialty designated by the Secretary concerned pursuant to 10 U.S.C. 2007 and only under the following conditions:

(i) In the case of a commissioned officer, the officer must agree to remain a member of the SELRES or IRR for at least 4 years after completion of the education or training for which TA was paid.

(ii) In the case of an enlisted member, the Secretary concerned may require the member of the IRR to enter into an agreement to remain a member of the IRR for up to 4 years after completion of the education or training for which TA is paid.

(7) Members performing Active Guard and Reserve (AGR) duty under either 10 U.S.C. 12310 or active duty under 14 U.S.C. 712 are eligible for TA under paragraph (a)(4) of this section.

(8) The Secretary of the Military Department concerned may make TA available to National Guard members in accordance with paragraph (a)(4), except for National Guard members assigned to the Inactive National Guard.

(9) Reimbursement and repayment requirements:

(i) If a commissioned officer or member of the RR does not fulfill a specified Service obligation as required by 10 U.S.C. 2007, they are subject to the repayment provisions of 37 U.S.C. 303a(e).

(ii) For other conditions pursuant to 10 U.S.C. 2005, the Secretary concerned may require a Service member to enter into a written agreement when providing advanced education assistance. If the Service member does not fulfill any terms or conditions as prescribed by the Secretary concerned, the Service member will be subject to the repayment provisions of 37 U.S.C. 303a(e).

(iii) Pursuant to 37 U.S.C. 303a(e), the Secretary concerned may establish procedures for determining the amount of the repayment required from the Service member and the circumstances under which an exception to the required repayment may be granted.

(iv) Reimbursement will be required from the Service member if a successful course completion is not obtained. For the purpose of reimbursement, a successful course completion is defined as a grade of “C” or higher for undergraduate courses, a “B” or higher for graduate courses and a “Pass” for “Pass/Fail” grades. Reimbursement will also be required from the Service member if he or she fails to make up a grade of “I” for incomplete within the time limits stipulated by the educational institution or 6 months after the completion of the class, whichever comes first. The Secretary of the Military Department will establish recoupment processes for unsuccessful completion of courses.

(10) Students using TA must maintain a cumulative grade point average (GPA) of 2.0 or higher after completing 15 semester hours, or equivalent, in undergraduate studies, or a GPA of 3.0 or higher after completing 6 semester hours, or equivalent, in graduate studies, on a 4.0 grading scale. If the GPA for TA funded courses falls below these minimum GPA limits, TA will not be authorized and Service members will use alternative funding (such as financial aid or personal funds) to enroll in courses to raise the cumulative GPA to 2.0 for undergraduate studies or 3.0 for graduate studies.

(11) TA will not be authorized for any course for which a Service member receives reimbursement in whole or in part from any other Federal source such as veterans' education benefits (GI Bill and other programs) and Service-funded programs (ROTC scholarship, education-related incentive or bonus, and advanced civil schooling) when the payment would constitute a duplication of benefits paid to that educational institution. Federal student aid loan, grant, and work-study programs will not be considered a duplication of benefit. Educational institutions have the responsibility to notify the Service if there is any duplication of benefits, determine the amount of credit that should be returned, and credit the amount back to the Service. The use of funds related to veterans' education benefits to supplement TA received by active duty and RC personnel is authorized in accordance with applicable VA guidelines.

(12) Pell Grants may be used in conjunction with TA assistance to pay that portion of tuition costs not covered by TA.

(13) TA will be provided for courses provided by educational institutions awarding degrees based on demonstrated competency, if:

(i) Competency rates are equated to semester or quarter units of credit, and

(ii) The educational institution publishes traditional grade correlations with “Pass/Fail” grades, and

(iii) The educational institution provides a breakdown by course equivalent for Service members.

(14) Enrollment in a professional practicum integral to these types of programs is also authorized. However, normal DoD TA caps and ceilings apply; the cost of expanded levels of enrollment over and above these enrollment levels and normal caps and ceilings must be borne by the student.

(15) When used for postsecondary education, TA will be provided only for courses offered by postsecondary educational institutions whose home campus is operating within the United States, to include the District of Columbia and U.S. territories, which are accredited by a national or regional accrediting body recognized by the ED.

(16) On a date to be determined, but not earlier than 60 days following the publication of this part in the Federal Register, to receive TA, all educational institution home campuses must sign the revised DoD Voluntary Education Partnership Memorandum of Understanding (MOU) in appendices A, B, C, D, and E to this part, and the name of the educational institution must be posted on the DoD MOU Web site under the `Participating Institutions' tab (located at http://www.dodmou.com). One signed, revised DoD Voluntary Education Partnership MOU with the educational institution's home campus will cover any program offered by the educational institution, regardless of location. The requirement to sign the revised DoD Voluntary Education Partnership MOU contained in this part applies to institutions with a previously approved and signed DoD Voluntary Education Partnership MOU posted on the DoD MOU Web site.

(17) To the extent that any provision of the standard language of the DoD Voluntary Education Partnership MOU template in appendices A, B, C, D, and E to this part, results from DoD policy that conflicts with a state law or regulation, the DASD(MCFP) may authorize amending the standard language of the DoD Voluntary Education Partnership MOU template on a case-by-case basis to the extent permissible by Federal law or regulation.

(18) A DoD Voluntary Education Partnership MOU with an educational institution may be suspended or terminated by DoD in these circumstances:

(i) The DoD Voluntary Education Partnership MOU with an educational institution may be terminated by the ASD(R&FM) following written notice and an opportunity to respond for the failure to comply with any element of this part of the DoD Voluntary Education Partnership MOU. In addition, an otherwise qualified educational institution may be suspended from participating in the tuition assistance program by the ASD(R&FM) following written notice and an opportunity to respond through either the termination of an existing DoD Voluntary Education Partnership MOU or the refusal by DoD to enter into a new DoD Voluntary Education Partnership MOU upon indictment of the educational institution or any senior official of the educational institution on a criminal charge related to the operation of the educational institution. The decision of the ASD(R&FM) in either of these cases may be appealed to the USD(P&R), and the decision of the USD(P&R) will be deemed to be the final administrative action by DoD on the matter.

(ii) An otherwise qualified educational institution may also be immediately suspended from participating in the tuition assistance program through either the termination of an existing DoD Voluntary Education Partnership MOU or the refusal to enter into a new DoD Voluntary Education Partnership MOU by the USD(P&R) on national security grounds. Written notice of the action will be provided to the educational institution, and, if practicable without damaging national security, the written notice will include a short unclassified summary of the reasons for the action. Such a decision of the USD(P&R) is only appealable to the Secretary of Defense, who has authorized the Deputy Secretary of Defense to act on such an appeal.

(iii) The authorities pursuant to this paragraph are not delegable.

(b) Guidelines for establishing, maintaining, and operating voluntary education programs. (1) Education programs established under this part by each Military Service will:

(i) Provide for the academic, technical, intellectual, personal, and professional development of Service members, thereby contributing to the readiness of the Military Services and the quality of life of Service members and their families.

(ii) Increase Service members' opportunities for advancement and leadership by reinforcing their academic skills and occupational competencies with new skills and knowledge.

(iii) Lead to a credential, such as a high school diploma, certificate, or college degree, signifying satisfactory completion of the educational program.

(iv) Include an academic skills program, which allows personnel to upgrade their reading, writing, computation, and communication abilities in support of academic skills and military occupations and careers. Academic skills programs may include English as a Second Language, mathematics and basic science.

(v) Include programs and college offerings that support findings from periodic needs assessments conducted by the appropriate DoD installation official (normally the Education Services Officer) for programs provided on the DoD installation. The DoD installation needs assessment process is used to determine such items as staffing requirements, course offerings, size of facilities, funding, or other standards for delivery of educational programs. Duplication of course offerings on a DoD installation should be avoided. However, the availability of similar courses through correspondence or electronic delivery will not be considered duplication.

(vi) Be described in a publication or on-line source that includes on-installation educational programs, programs available at nearby DoD installations, and colleges and universities nearby the DoD installation.

(2) Each Military Service, in cooperation with community educational service providers, will provide support essential to operating effective education programs. This support includes:

(i) Adequate funds for program implementation, administration, and TA.

(ii) Adequately trained staff to determine program needs, counsel students, provide testing services, and procure educational programs and services. Education counseling will be provided by qualified professional (Education Services Series 1740 or an individual with equivalent qualifications) individuals.

(iii) Adequate and appropriate classroom, laboratory, and office facilities and equipment, including computers to support local needs.

(iv) Access to telecommunications networks, computers, and physical or online libraries at times convenient to active duty personnel.

(3) In operating its programs, each Military Service will:

(i) Provide to newly assigned personnel, as part of their orientation to each new DoD installation or unit of assignment for RC personnel, information about voluntary education programs available at that DoD installation, unit, or State for RC personnel.

(ii) Maintain participants' educational records showing education accomplishments and educational goals.

(iii) Provide for the continuing professional development of their education services staff, including the participation of field staff in professional, as well as Service-sponsored, conferences, symposiums, and workshops.

(iv) Provide educational services, including TA counseling, academic advice and testing to their personnel and to personnel of other Services (including the U.S. Coast Guard when operating as a service in the Navy) who are assigned for duty at DoD installations of the host Service. These educational services will be provided by qualified professional (Education Services Series 1740 or an individual with equivalent qualifications) individuals in sufficient numbers to operate voluntary education programs as determined by individual Service standards. Outcomes from these educational services will include:

(A) A prior learning assessment that includes a review of all education transcripts to include the JST, the CCAF transcript, and academic transcript recommendations for ACE recommended credit.

(B) An assessment of the Service members' readiness to accomplish the degree requirements as outlined in the evaluated educational plan and a discussion of academic skills development programs.

(C) Discussion and review of technical credentials that can be obtained concurrent to academic pursuits.

(D) Discussion of credit-by-examination options.

(E) Review of academic program options, leading to a degree plan.

(F) Discussion with prospective military students on payment options and the use of education benefits for postsecondary courses to include the DoD TA Program, VA education benefit programs, State and federal grants and loans, commercial lending, and out-of-pocket costs for the Service member. Discussion will include streamlined tools and information to compare educational institutions using key measures of affordability and value through the VA eBenefits portal at http://www.ebenefits.va.gov. The eBenefits portal is updated by VA to facilitate access to school performance information and key federal financial aid documents.

(v) Continually assess the state of its voluntary education programs and periodically conduct a formal needs assessment by the appropriate DoD installation official (normally the Education Services Officer) to ensure that the best possible programs are available to their members at each DoD installation or in their State or area command for RC personnel. It is essential that a formal needs assessment be conducted if there is a significant change in the demographic profile of the DoD installation population.

(4) Eligible adult family members of Service members, DoD civilian employees and their eligible adult family members, and military retirees may participate in installation postsecondary education programs on a space-available basis at no cost to the individual Service TA programs.

(5) At locations where an educational program that is offered on a DoD installation is not otherwise conveniently available outside the DoD installation, civilians who are not directly employed by the DoD or other Federal agencies, and who are not eligible adult family members of DoD personnel, may be allowed to participate in DoD installation educational programs. While such participation contributes to positive community relations, participation must be on a student-funded, space-available basis at no cost to the individual Service TA programs, after the registration of Service members, DoD civilian employees, eligible adult family members, and military retirees. Additionally, a review of these potential participants by the relevant DoD installation ethics counselor may be required as part of the installation commander's access requirements. Participation may also be subject to the terms of status-of-forces or other regulating agreements.

(6) Education centers will maintain liaison with appropriate State planning and approving agencies and coordinating councils to ensure that planning agencies for continuing, adult, or postsecondary education are aware of the educational needs of military personnel located within their jurisdiction.

(7) In supporting a high school completion program, each Military Service will:

(i) Ensure that all Service members with less than a high school education have the opportunity to attain a high school diploma or its equivalent.

(ii) Ensure that neither a Military Service nor DANTES issues a certificate or similar document to Service members based on performance on high school equivalency tests. Military Services will recognize attainment of high school completion or equivalency only after a State- or territory-approved agency has awarded the appropriate credential.

(iii) Pay 100 percent of the cost of high school equivalency instruction or proficiency testing and credentialing for Service members.

(iv) Ensure that Service sponsored high school diploma programs are delivered by institutions that are State-funded or a Service component program accredited by a regional accrediting body or recognized by a State's secondary school authority.

(c) Procedures for the responsible education advisor, on behalf of the installation commander, to follow to provide voluntary education programs and services from postsecondary educational institutions. (1) Contacts by an educational institution with a Service member for the purpose of asking or encouraging the member to sign up for one of the educational institution's programs (assuming the program has some cost) are considered personal commercial solicitations. The responsible education advisor will ensure educational institutions comply with DoD Instruction 1344.07, “Personal Commercial Solicitation on DoD Installations” (available at http://www.dtic.mil/whs/directives/corres/pdf/134407p.pdf) and all requirements established by the installation commander for solicitation. Materials available through the education center that provide basic information about the educational institution or its programs or services in compliance with this MOU will not be considered personal commercial solicitation including, but not limited to, brochures, flyers, and catalogs provided by the educational institution. The responsible education advisor will ensure adequate and appropriate materials are available at no cost to the Service member and at no additional charge to the educational institution meeting the requirements as stated in the policy section of this part and in compliance with the DoD Voluntary Education Partnership MOU.

(2) The responsible education advisor will limit DoD installation access to educational institutions or their agents meeting the requirements as stated in the policy section of this part and in compliance with the DoD Voluntary Education Partnership MOU. Agents representing education institutions in the performance of contracted services are permitted DoD installation access only in accordance with the requirements of their contract and/or agreement.

(3) Educational institutions interested in providing education, guidance, training opportunities, and participating in sanctioned education fairs on a DoD installation provide their requests to the responsible education advisor, who will review and analyze these requests on behalf of the installation commander.

(4) The responsible education advisor will ensure all educational institutions and its agents granted access to DoD installations to provide education, guidance, training opportunities, and participate in sanctioned education fairs to Service members:

(i) Adhere to federal law, DoD Instruction 1344.07, DoD Instruction 1322.19, “Voluntary Education Programs in Overseas Areas” (available at http://www.dtic.mil/whs/directives/corres/pdf/132219p.pdf; and the cognizant Military Service's policies and regulations.

(ii) Comply with applicable DoD installation policies and procedures designated by the installation commander on such matters as fire and safety, environment, physical security, personnel background checks, vehicle inspection and registration, and any other applicable statues or regulations designated by the installation commander.

(5) Monitor educational institutions and its agents granted access to a DoD installation to ensure they do not:

(i) Use unfair, deceptive, abusive or fraudulent devices, schemes, or artifices, including misleading advertising or sales literature.

(ii) Engage in unfair, deceptive, or abusive marketing tactics, such as during unit briefings or assemblies; engaging in open recruiting efforts; or distributing marketing materials on the DoD installation at unapproved locations or events.

(iii) Market to or recruit newly assigned military personnel to the DoD installation, unless the Service member has received information about voluntary education programs and educational services available at that DoD installation, to include TA, from their education services staff or as part of their orientation to the new DoD installation.

(6) Ensure educational institutions granted access to DoD installations to provide programs, services, or education guidance to their students meet these criteria:

(i) Have a signed Voluntary Education Partnership MOU with DoD.

(ii) Are in compliance with State authorization requirements consistent with regulations issued by ED including 34 CFR 600.9. Educational institutions must meet the requirements of the state where services will be rendered to include compliance with all state laws as they relate to distance education.

(iii) Are State approved for the use of veterans' education benefits. Copies of the certification will be filed with the appropriate State approving agency for the military or veteran student.

(iv) Are certified to participate in federal student aid programs through the ED under Title IV of the Higher Education Act of 1965. Title IV certification may be provisional so long as the educational institution maintains eligibility to participate in the Federal Direct Loan Program.

(v) Are accredited by a national or regional accrediting body recognized by the ED and conduct programs only from among those offered or authorized by the main administrative and academic office in accordance with standard procedures for authorization of degree programs by the educational institution.

(7) DoD installations seeking an educational institution to provide on-installation education programs, through the responsible education advisor, must:

(i) Communicate the educational needs of the DoD installation to a wide variety of potential providers.

(ii) Seek favorable tuition rates, student services, and instructional support from providers.

(iii) Provide to interested providers:

(A) The level of services and instruction desired, and specific degree programs being sought.

(B) A demographic profile of the DoD installation population and probable volume of participation in the program.

(C) Facilities and level of security at no charge to the educational institution.

(D) Cost associated with equipment and supporting services provided at the discretion of the DoD installation.

(E) A copy of this part.

(F) Special requirements, such as:

(1) Format (e.g., distance, evening, or weekend classes), independent study, short seminar, or other mode of delivery of instruction.

(2) Unique scheduling problems related to the operational mission of the DoD installation.

(3) Any DoD installation restrictions, limitations, or special considerations relevant to using an alternate delivery system (e.g., DL).

(4) Available computer hardware and supporting equipment.

(5) Electrical, satellite, and network capabilities at the site.

(8) In evaluating proposals, responsible education advisors must ensure potential providers meet, at a minimum, these criteria:

(i) Programs satisfy objectives defined by the most recent needs assessment.

(ii) Programs, courses, and completion requirements are the same as those at the provider's main administrative and academic campus.

(iii) The educational institution granting undergraduate academic credit must adhere to the Servicemembers Opportunity Colleges (SOC) Principles and Criteria (available at http://www.soc.aascu.org/socconsortium/PublicationsSOC.html) regarding the transferability of credit, the awarding of credit for military training and experience, and residency requirements.

(iv) The provider is prepared to:

(A) Offer academic counseling and flexibility in accommodating special military schedules.

(B) Ensure main administrative and academic office approval in faculty selection, assignment, and orientation; and participation in monitoring and evaluation of programs. Adjunct or part-time faculty will possess comparable qualifications as full-time permanent faculty members.

(C) Conduct on-installation or online courses that carry identical credit values, represent the same content and experience, and use the same student evaluation procedures as courses offered through the main administrative and academic campus. All substantive course change requirements must follow the schools accreditation agencies requirements. If the educational institution's accrediting agency's substantive change policy requires new courses or program offerings to be submitted to the agency for approval, the educational institution will be required to submit such items for approval before admitting Service members using military TA.

(D) Maintain the same admission and graduation standards that exist for the same programs at the main administrative and academic office, and include credits from courses taken at a branch or auxiliary campus of the same educational institution in establishing academic residency to meet degree requirements.

(E) Provide library and other reference and research resources, in either print or electronic format, that are appropriate and necessary to support course offerings.

(F) Establish procedures to maintain regular communication among central institutional academic leadership and administrators, and off-campus representatives and faculty. Any educational institution's proposal must specify these procedures.

(G) Provide students with regular and accessible academic and financial counseling services either electronically or in-person. At a minimum, this includes Title IV and VA education benefits.

(H) Charge tuition that is not more than tuition charged to nonmilitary students.

(I) Have established policies for awarding credit for military training by examinations, experiential learning, and courses completed using modes of delivery other than instructor-delivered, on-site classroom instruction.

(J) Conduct programs only from among those offered or authorized by the main administrative and academic office in accordance with standard procedures for authorization of degree programs by the educational institution.

(d) Requirements and procedures for educational institutions seeking access to the DoD installation solely to provide academic counseling or student support services to students. (1) Educational institutions must meet the criteria in paragraphs (c)(6)(i) through (v) of this section.

(2) Educational institutions must have a DoD installation student population of at least 20 military students, except in overseas locations covered by DoD Instruction 1322.19. For this exception, only contracted educational institutions are permitted on overseas DoD installations. Educational institutions may submit eligible Title IV and GI Bill recipients (military or family member) to supplement military TA recipients in meeting the minimum requirement.

(3) Educational institutions must request access through the responsible education advisor via a written proposal. If a request is received from an educational institution seeking access to a joint DoD installation, the responsible education advisor from the education center will determine the appropriate Military Service to work the request. The request should include as a minimum:

(i) Educational institution name and intent or purpose of the visit.

(ii) Number and names of educational institution representatives that will be available.

(iii) Counseling delivery method: By appointment or walk-in.

(iv) Communication process used to inform students of their availability for counseling.

(4) The responsible education advisor will review and analyze the request on behalf of the installation commander. The installation commander has the final authority to approve, deny, suspend, or withdraw DoD installation access permission from an educational institution, as deemed appropriate.

(5) If a request is received from an educational institution seeking access to a DoD installation, the responsible education advisor will:

(i) Fully consider requests from those educational institutions complying with requirements as stated in paragraphs (d)(1) through (3) of this section and be consistent in treatment of educational institutions in accordance with this part. Also, consider the value to the Service member as it relates to geographic location, accessibility and mission tempo.

(ii) If request is denied, provide a timely response to the educational institution and inform the educational institution they may reapply for access once reasons for denial are addressed.

(iii) Maintain copies of all correspondence in accordance with the DoD installation records management schedule and disposition, with a minimum time requirement of 2 years.

(6) If a DoD installation grants access to an educational institution to provide guidance to their students, the educational institution and its agents will:

(i) Only advise or counsel students at the education center or at a location approved by the responsible education advisor.

(ii) Maintain a record of students counseled and provide a copy to the education office. The record will annotate the type of program and the status of the Service member (current or reenrollment).

(iii) Comply with applicable DoD installation policies and procedures designated by the installation commander on such matters as fire and safety, environment, physical security, personnel background checks, vehicle inspection and registration, and any other applicable statues or regulations designated by the installation commander.

(e) Interservice Voluntary Education Board. Under the direction of the Voluntary Education Chief, the Interservice Voluntary Education Board is composed of full-time or permanent part-time employees of DoD or military members, and consists of one representative responsible for policy from the Office of the ASD(RA), and the senior voluntary education advisor responsible for policy each from the Army, Navy, Air Force, and Marine Corps. The Director, DANTES, will serve as an ex-officio member. Meeting quarterly, the Board will:

(1) Provide a forum for the exchange of information and discussion of issues related to voluntary education programs.

(2) Develop recommendations for changes in policies and procedures.

(3) Develop recommendations for DANTES' activities and operations that support voluntary education programs.

(4) Review and prioritize DANTES activities that support DoD voluntary education programs, to include budget execution and recommend execution year adjustments.

(5) Develop recommended policy and program guidance for DANTES for the Future-Year Defense Program.

(f) DANTES. (1) Guidance and recommendations for DANTES will be developed with the advice of the Interservice Voluntary Education Board.

(2) The selection and rating of the Director, DANTES will be as follows:

(i) The DASD(MCFP) will convene and chair the search committee responsible for replacing the Director, DANTES, when the position is vacated. At the request of the USD(P&R), the Secretaries of the Military Departments will provide a senior manager to sit on the search committee. The committee will recommend the best qualified candidate to the DoD EA for DANTES, for possible appointment as the Director, DANTES.

(ii) The DoD EA for DANTES will designate the rater of the Director, DANTES. The Director, State Liaison and Educational Opportunity within the Office of the USD(P&R), MCFP, will provide input to the DoD EA designated rater concerning the performance of the Director, DANTES.

(3) DANTES will:

(i) Support the Service voluntary education programs by executing the program outlined in this part and the annual USD(P&R) supplemental guidance for those items not reflected in this paragraph of this section.

(ii) Provide execution information to the Interservice Voluntary Education Board quarterly and provide information required to assist with the program objective memorandum development as requested by the Board.

(iii) Support DoD off-duty, voluntary education programs and conduct special projects and developmental activities in support of education-related DoD functions.

(iv) Assist the Military Services in providing high-quality and valuable educational opportunities for Service members, their eligible adult family members, and DoD personnel, and assist personnel in achieving professional and personal educational objectives. This role includes the consolidated management of programs that prevent duplication of effort among the Services. Through its activities, DANTES supports DoD recruitment, retention, and the transition efforts.

(v) Assume responsibilities and functions that include:

(A) Managing and facilitating the delivery of a wide variety of examinations including the General Equivalency Diploma test, college admissions, and credit-by-examination programs.

(B) Upon request, issuing transcripts for the United States Armed Forces Institute and the examination and certification programs.

(C) Managing the contract through which former DoD Dependents Schools students can obtain copies of archived transcripts.

(D) Managing the contract and functions related to the evaluation of educational experiences in the Military Services that are covered by the contract.

(E) Providing or developing and distributing educational materials, reference books, counseling publications, educational software, and key educational resource information to Defense Agencies and DoD installations.

(F) Managing the SOC program contract and related functions.

(G) Managing the DoD contract that provides for periodic third-party reviews of DoD voluntary education programs titled the Third Party Education Assessment.

(H) Managing the contract and data received on the voluntary education programs for the VEMIS, which includes gathering, collating, and verifying participation and cost data from the Services. Providing requisite consolidated reports to USD(P&R). Requested data from the Military Services on voluntary education programs is located and stored at https://afaems.langley.af.mil/vemis. A user guide containing voluntary education program data and report information for the Military Services and DANTES is also available at this Web site, under the “Resources” tab.

(I) Managing the DoD independent study catalog and its support systems, as required.

(J) Negotiating, administering, and coordinating contracts for DoD Worldwide Education Symposiums in support of and in conjunction with the Interservice Voluntary Education Board.

(K) Establishing, refining, updating, and maintaining information on worldwide education support of DoD off-duty, voluntary education programs on the Internet. Maintaining necessary infrastructure to ensure that information on the Internet is always current and available to leadership, agency personnel, the public, and others.

(L) Administering the TTT program in accordance with section 1154 of chapter 58 of 10 U.S.C.

(M) Monitoring new technological developments, providing reports, cost analyses, and recommendations on educational innovations, and conducting special projects requested by the Department of Defense and the Services, approved by the Interservice Voluntary Education Board, and as reflected and approved in DANTES' annual policy guidance.

(N) Conducting staff development training on DANTES' policies, procedures, and practices related to voluntary education testing programs, and providing additional training as requested by the Office of the Secretary of Defense and the Services.

(O) Serving as the Defense Media Activity's point of contact for information on DANTES programs for military personnel.

(P) Providing support, as requested, to DoD and Service Quality of Life and Transition support programs.

(Q) Providing other support in mission areas as directed by the USD(P&R) and the DASD(MCFP).

(R) Managing DoD contingency Tri-Service contracts, which provide educational opportunities for deployed Service members with guidance and oversight from the DoD Voluntary Education Chief.

(S) Monitoring and maintaining liaison with the office responsible for consolidating and distributing the JST for the Services.

(vi) Maintain liaison with education services officials of the Military Services, and appropriate Federal and State agencies and educational associations, in matters related to the DANTES mission and assigned functions.

(vii) Serve on panels and working groups designated by the DASD(MCFP).

(viii) Serve as the Executive Secretary at the Interservice Voluntary Education Board meeting convened annually to review DANTES programs and to develop recommendations for inclusion in annual policy guidance for DANTES. In this role, the Director, DANTES, will coordinate the meeting, prepare the agenda, review and analyze DANTES programs and initiatives outlined in the prior year's operational plan, and provide minutes after the meeting.

(ix) Assist the Services in screening candidates for the DANTES Senior Enlisted Advisor and DANTES RC Advisor positions.

(x) Maintain the repository for the DoD Voluntary Education Partnership MOU between USD(P&R) and partner educational institutions, to include Service-specific addendums (see the Appendix to this section for the template of the DoD Voluntary Education Partnership MOU). DANTES will:

(A) Administer and update the system that is the repository of the MOUs per guidance from USD(P&R).

(B) Create, track, and maintain a centrally managed database for all signed documents.

(C) Publish an Internet-based list of all educational institutions that have a signed DoD Voluntary Education Partnership MOU.

(D) Generate reports in accordance with guidance from the USD(P&R) and procedures in DTM 12-004, “DoD Internal Information Collections” (available at http://www.dtic.mil/whs/directives/corres/pdf/DTM-12-004.pdf) and DoD 8910-1-M, “Department of Defense Procedures for Management of Information Requirements” (available at http://www.dtic.mil/whs/directives/corres/pdf/891001m.pdf).

(x) Provide data analyses and generate reports required by DoD and the Interservice Voluntary Education Board as needed.

Appendix A to Part 68—DoD Voluntary Education Partnership Memorandum of Understanding (MOU) Between DoD Office of the Under Secretary of Defense for Personnel and Readiness (USD(P&R)) and [Name of Educational Institution]

1. Preamble.

a. Providing access to quality postsecondary education opportunities is a strategic investment that enhances the U.S. Service member's ability to support mission accomplishment and successfully return to civilian life. A forward-leaning, lifelong learning environment is fundamental to the maintenance of a mentally powerful and adaptive leadership-ready force. Today's fast-paced and highly mobile environment, where frequent deployments and mobilizations are required to support the Nation's policies and objectives, requires DoD to sponsor postsecondary educational programs using a variety of learning modalities that include instructor-led courses offered both on- and off-installation, as well as distance learning options. All are designed to support the professional and personal development and progress of the Service members and our DoD civilian workforce.

b. Making these postsecondary programs available to the military community as a whole further provides Service members, their eligible adult family members, DoD civilian employees, and military retirees ways to advance their personal education and career aspirations and prepares them for future vocational pursuits, both inside and outside of DoD. This helps strengthen the Nation by producing a well-educated citizenry and ensures the availability of a significant quality-of-life asset that enhances recruitment and retention efforts in an all-volunteer force.

2. Purpose.

a. This MOU articulates the commitment and agreement educational institutions provide to DoD by accepting funds via each Service's tuition assistance (TA) program in exchange for education services.

b. This MOU is not an obligation of funds, guarantee of program enrollments by DoD personnel, their eligible adult family members, DoD civilian employees, or retirees in an educational institution's academic programs, or a guarantee for DoD installation access.

c. This MOU covers courses delivered by educational institutions through all modalities. These include, but are not limited to, classroom instruction, distance education (i.e., web-based, CD-ROM, or multimedia) and correspondence courses.

d. This MOU includes high school programs, academic skills programs, and adult education programs for military personnel and their eligible adult family members.

e. This MOU articulates regulatory and governing directives and instructions:

(1) Eligibility of DoD recipients is governed by Federal law, DoD Instruction 1322.25, DoD Directive 1322.08E, and the cognizant Military Service's policies, regulations, and fiscal constraints.

(2) Postsecondary educational programs provided to Service members using TA on DoD installations outside of the United States, will be operated in accordance with guidance from DoD Instruction 1322.25, DoD Instruction 1322.19, section 1212 of Public Law 99-145, as amended by section 518 of Public Law 101-189; and under the terms of the Tri-Services contract currently in effect.

f. This MOU is subject at all times to Federal law and the rules, guidelines, and regulations of DoD. Any conflicts between this MOU and such Federal law, rules, guidelines, and regulations will be resolved in favor of the Federal law, rules, guidelines, or regulations.

3. Educational Institution (Including Certificate and Degree Granting Educational Institutions) Requirements for TA. Educational institutions must:

a. Sign and adhere to requirements of this MOU, including Service-specific addendums as appropriate, prior to being eligible to receive TA payments.

(1) Those educational institutions that have a current Voluntary Education Partnership MOU with DoD will sign this MOU:

(a) At the expiration of their current MOU (renewal);

(b) At the request of DoD or the specific Military Service holding a separate current MOU. The DoD Voluntary Education Partnership MOU (which includes the Service-specific addendums) is required for an educational institution to participate in the DoD TA Program. An “installation MOU” (which is separate from this MOU) is only required if an educational institution is operating on a DoD installation. The installation MOU:

1. Contains the installation-unique requirements that the responsible education advisor coordinated, documented, and retained; is approved by the appropriate Service voluntary education representative; and is presented to the installation commander for final approval.

2. Cannot conflict with the DoD Voluntary Education Partnership MOU and governing regulations.

(2) Educational institutions must comply with this MOU and the requirements in Service-specific addendums that do not conflict with governing Federal law and rules, guidelines, and regulations, which include, but are not limited to, Title 10 of the U.S. Code; DoD Directive 1322.08E, “Voluntary Education Programs for Military Personnel”; DoD Instruction 1322.25, “Voluntary Education Programs”; DoD Instruction 1322.19, “Voluntary Education Programs in Overseas Areas”; and all DoD installation requirements imposed by the installation commander, if the educational institution has been approved to operate on a particular base. Educational institutions failing to comply with the requirements set forth in this MOU may receive a letter of warning, be denied the opportunity to establish new programs, have their MOU terminated, be removed from the DoD installation, and may have the approval of the issuance of TA withdrawn by the Service concerned.

b. Be accredited by a national or regional accrediting agency recognized by ED, approved for VA funding, and certified to participate in Federal student aid programs through ED under Title IV of the Higher Education Act of 1965.

c. Comply with the regulatory guidance provided by DoD and the Services.

d. Comply with state authorization requirements consistent with regulations issued by ED, including 34 CFR 600.9. Educational institutions must meet all State laws as they relate to distance education as required.

e. Participate in the Third Party Education Assessment process when requested. This requirement applies not only to educational institutions providing courses on DoD installations, but also to those educational institutions that provide postsecondary instruction located off the DoD installation or via DL. Educational institutions may be selected for Third Party Education Assessment based on provider offerings (on-installation, off-installation, or DL), education benefits received (large provider in terms of enrollments or TA funds), or an observed promising practice. Educational institutions may also be selected as a result of reports of non-compliance with the DoD Voluntary Education Partnership MOU, complaint(s) received, or negative information received from other government agencies and regulators. Educational institutions demonstrating an unwillingness to resolve findings may receive a range of penalties from a written warning to revocation of the DoD Voluntary Education Partnership MOU and removal from participation in the DoD TA Program. As appropriate, Third Party Education Assessment findings will be shared with other government agencies/regulators including but not limited to CFPB, VA, ED, DOJ, and FTC.

(1) If an educational institution is operating on the DoD installation, the educational institution will resolve the assessment report findings and provide corrective actions taken within 6 months of the Third Party Education Assessment to the responsible education advisor on the DoD installation, the appropriate Service Voluntary Education Chief, and the DoD Voluntary Education Chief.

(2) If an educational institution is operating off the DoD installation or via DL, the educational institution will resolve the assessment report findings and provide corrective actions taken within 6 months of the Third Party Education Assessment to the DoD Voluntary Education Chief.

(3) In instances when the resolution action cannot be completed within the 6 month timeframe, the educational institution will submit a status report every 3 months to the responsible education advisor on the DoD installation if the educational institution is operating on the DoD installation, and the DoD Voluntary Education Chief, until the recommendation is resolved.

f. Before enrolling a Service member, provide each prospective military student with specific information to locate, explain, and properly use the following ED and CFPB tools:

(1) The College Scorecard which is a consumer planning tool and resource to assist prospective students and their families as they evaluate options in selecting a school and is located at: http://collegecost.ed.gov/scorecard/.

(2) The College Navigator which is a consumer tool that provides school information to include tuition and fees, retention and graduation rates, use of financial aid, student loan default rates and features a cost calculator and school comparison tool. The College Navigator is located at: http://nces.ed.gov/collegenavigator/.

(3) The Financial Aid Shopping Sheet which is a model aid award letter designed to simplify the information that prospective students receive about costs and financial aid so they can easily compare institutions and make informed decisions about where to attend school. The shopping sheet can be accessed at: http://www2.ed.gov/policy/highered/guid/aid-offer/index.html.

(4) The `Paying for College' Web page which can be used by prospective students to enter the names of up to three schools and receive detailed financial information on each one and to enter actual financial aid award information. The tool can be accessed at: http://www.consumerfinance.gov/paying-for-college/.

g. Designate a point of contact or office for academic and financial advising, including access to disability counseling, to assist Service members with completion of studies and with job search activities.

(1) The designated person or office will serve as a point of contact for Service members seeking information about available, appropriate academic counseling, financial aid counseling, and student support services at the educational institution;

(2) The point of contact will have a basic understanding of the military tuition assistance program, ED Title IV funding, education benefits offered by the VA, and familiarity with institutional services available to assist Service members.

(3) The point of contact does not need to be exclusively dedicated to providing these services and, as appropriate, may refer the Service member to other individuals with an ability to provide these services, both on- and off-campus.

h. Before offering, recommending, arranging, signing-up, dispersing, or enrolling Service members for private student loans, provide Service members access to an institutional financial aid advisor who will make available appropriate loan counseling, including, but not limited to:

(1) Providing a clear and complete explanation of available financial aid, including Title IV of the Higher Education Act of 1965, as amended.

(2) Describing the differences between private and federal student loans to include terms, conditions, repayment and forgiveness options.

(3) Disclosing the educational institution's student loan Cohort Default Rate (CDR), the percentage of its students who borrow, and how its CDR compares to the national average. If the educational institution's CDR is greater than the national average CDR, it must disclose that information and provide the student with loan repayment data.

(4) Explaining that students have the ability to refuse all or borrow less than the maximum student loan amount allowed.

i. Have a readmissions policy for Service members that:

(1) Allows Service members and reservists to be readmitted to a program if they are temporarily unable to attend class or have to suspend their studies due to service requirements.

(2) Follows the regulation released by ED (34 CFR 668.18) regarding readmissions requirements for returning Service members seeking readmission to a program that was interrupted due to a Military service obligation, and apply those provisions to Service members that are temporarily unable to attend classes for less than 30 days within a semester or similar enrollment period due to a Military service obligation when such absence results in a withdrawal under institution policies. A description of the provisions for U.S. Armed Forces members and their families is provided in Chapter 3 of Volume 2 of the Federal Student Aid Handbook.

j. Have policies in place compliant with program integrity requirements consistent with the regulations issued by ED (34 CFR 668.71-668.75 and 668.14) related to restrictions on misrepresentation, recruitment, and payment of incentive compensation. This applies to the educational institution itself and its agents including third party lead generators, marketing firms, or companies that own or operate the educational institution. As part of efforts to eliminate unfair, deceptive, and abusive marketing aimed at Service members, educational institutions will:

(1) Ban inducements including any gratuity, favor, discount, entertainment, hospitality, loan, transportation, lodging, meals, or other item having a monetary value of more than a de minimis amount to any individual, entity, or its agents including third party lead generators or marketing firms other than salaries paid to employees or fees paid to contractors in conformity with all applicable laws for the purpose of securing enrollments of Service members or obtaining access to TA funds. Educational institution sponsored scholarships or grants and tuition reductions available to military students are permissible.

(2) Refrain from providing any commission, bonus, or other incentive payment based directly or indirectly on securing enrollments or federal financial aid (including TA funds) to any persons or entities engaged in any student recruiting, admission activities, or making decisions regarding the award of student financial assistance.

(3) Refrain from high-pressure recruitment tactics such as making multiple unsolicited contacts (3 or more), including contacts by phone, email, or in-person, and engaging in same-day recruitment and registration for the purpose of securing Service member enrollments.

k. Refrain from automatic program renewals, bundling courses or enrollments. The student and Military Service must approve each course enrollment before the start date of the class.

l. The educational institution will obtain the approval of their accrediting agency for any new course or program offering, provided such approval is required under the substantive change requirements of the accrediting agency. Approval must be obtained before the enrollment of a Service member into the new course or program offering.

m. If the educational institution is a member of the Servicemembers Opportunity Colleges (SOC), in addition to the requirements stated in paragraphs 3.a through 3.l of this MOU, the educational institution will:

(1) Adhere to the SOC Principles, Criteria, and Military Student Bill of Rights. (located at http://www.soc.aascu.org/socconsortium/PublicationsSOC.html).

(2) Provide processes to determine credit awards and learning acquired for specialized military training and occupational experience when applicable to a Service member's degree program.

(3) Recognize and use the ACE Guide to the Evaluation of Educational Experiences in the Armed Services to determine the value of learning acquired in military service. Award credit for appropriate learning acquired in military service at levels consistent with ACE Guide recommendations and/or those transcripted by CCAF, when applicable to a Service member's program.

n. If an educational institution is not a member of SOC, in addition to the requirements stated in paragraphs 3.a. through 3.l. of this MOU, the educational institution will:

(1) Disclose its transfer credit policies and articulated credit transfer agreements before a Service member's enrollment. Disclosure will explain acceptance of credits in transfer is determined by the educational institution to which the student wishes to transfer and refrain from making unsubstantiated representations to students about acceptance of credits in transfer by another institution.

(a) If the educational institution accepts transfer credit from other accredited institutions, then the educational institution agrees to evaluate these credits in conformity with the principles set forth in the Joint Statement on the Transfer and Award of Credit developed by members of the American Association of Collegiate Registrars and Admissions Officers, the American Council on Education, and the Council for Higher Education Accreditation. The educational institution will then award appropriate credit, to the extent practicable within the framework of its institutional mission and academic policies.

(b) Decisions about the amount of transfer credit accepted, and how it will be applied to the student's program, will be left to the educational institution.

(2) Disclose its policies on how they award academic credit for prior learning experiences, including military training and experiential learning opportunities provided by the Military Services, at or before a Service member's enrollment.

(a) In so far as the educational institution's policies generally permit the award of credit for comparable prior learning experiences, the educational institution agrees to evaluate the learning experiences documented on the Service member's official Service transcripts, and, if appropriate, award credit.

(b) The JST is an official education transcripts tool for documenting the recommended college credits for professional military education, training courses, and occupational experiences of Service members across the Services. The JST incorporates data from documents such as the Army/ACE Registry Transcript System, the Sailor/Marine ACE Registry Transcript System, the Community College of the Air Force transcript, and the Coast Guard Institute transcript.

(c) Decisions about the amount of experiential learning credit awarded, and how it will be applied to the student's program, will be left to the educational institution. Once an educational institution has evaluated a particular military training or experiential learning opportunity for a given program, the educational institution may rely on its prior evaluation to make future decisions about awarding credit to Service members with the same military training and experience documentation, provided that the course content has not changed.

(3) If general policy permits, award transfer credit or credit for prior learning to:

(a) Replace a required course within the major;

(b) Apply as an optional course within the major;

(c) Apply as a general elective;

(d) Apply as a basic degree requirement; or

(e) Waive a prerequisite.

(4) Disclose to Service members any academic residency requirements pertaining to the student's program of study, including total and any final year or final semester residency requirement at or before the time the student enrolls in the program.

(5) Disclose basic information about the educational institution's programs and costs, including tuition and other charges to the Service member. This information will be made readily accessible without requiring the Service member to disclose any personal or contact information.

(6) Before enrollment, provide Service members with information on institutional “drop/add,” withdrawal, and readmission policies and procedures to include information on the potential impact of military duties (such as unanticipated deployments or mobilization, activation, and temporary duty assignments) on the student's academic standing and financial responsibilities. For example, a Service member's military duties may require relocation to an area where he or she is unable to maintain consistent computer connectivity with the educational institution, which could have implications for the Service member's enrollment status. This information will also include an explanation of the educational institution's grievance policy and process.

(7) Conduct academic screening and competency testing; make course placement based on student readiness.

4. TA Program Requirements for Educational Institutions.

a. One Single Tuition Rate. All Service members attending the same educational institution, at the same location, enrolled in the same course, will be charged the same tuition rate without regard to their Service component. This single tuition rate includes active duty Service members and the National Guard and Reservists who are activated under Title 10 and using Title 10 Military Tuition Assistance, in order to assure that tuition rate distinctions are not made based on the Service members' branches of Service.

(1) It is understood tuition rates may vary by mode of delivery (traditional or online), at the differing degree levels and programs, and residency designations (in-state or out-of-state). Tuition rates may also vary based on full-time or part-time status, daytime vs. evening classes, or matriculation date, such as in the case of a guaranteed tuition program.

(2) It is also understood that some States have mandated State rates for Guard and Reservists within the State. (Those Guard and Reservists not activated on Title 10, U.S. Code orders).

b. Course Enrollment Information. The educational institutions will provide course enrollment, course withdrawal, course cancellation, course completion or failure, grade, verification of degree completion, and billing information to the TA issuing Service's education office, as outlined in the Service's regulations and instructions.

(1) Under section 1232g of title 20, United States Code (also known as “The Family Educational Rights and Privacy Act” and hereinafter referred to as “FERPA”), DoD recognizes that educational institutions are required to obtain consent before sharing personally identifiable non-directory information with a third party. Service members must authorize the educational institutions to release and forward course enrollment information required in 4.b. to DoD prior to approval of course enrollment using tuition assistance.

(2) If an educational institution wants to ensure confidentiality during the transmission of data to the third party, then the educational institution can contact the appropriate Service TA management point of contact to discuss security and confidentiality concerns prior to transmitting information.

c. Degree Requirements and Evaluated Educational Plans.

(1) Educational institutions will disclose general degree requirements for the Service member's educational program (evaluated educational plan) to the member and his or her Service before the enrollment of the Service member at the educational institution. These requirements, typically articulated in the educational institution's course catalog, should:

(a) Include the total number of credits needed for graduation.

(b) Divide the coursework students must complete in accordance with institutional academic policies into general education, required, and elective courses.

(c) Articulate any additional departmental or graduate academic requirements, such as satisfying institutional and major field grade point average requirements, a passing grade in any comprehensive exams, or completion of a thesis or dissertation.

(2) In addition to providing degree requirements, the educational institution will provide to Service members who have previous coursework from other accredited institutions and relevant military training and experiential learning an evaluated educational plan that indicates how many, if any, transfer credits it intends to award and how these will be applied toward the Service member's educational program. The evaluated educational plan will be provided within 60 days after admission to the educational institution in which the individual has selected a degree program and all required official transcripts have been received.

(3) When a Service member changes his or her educational goal or major at the attending school and the Services' education advisor approves the change, then the educational institution will provide a new evaluated educational plan to the Service member and the Service within 60 days. Only courses listed in the Service member's evaluated educational plan will be approved for TA.

(4) Degree requirements in effect at the time of each Service member's enrollment will remain in effect for a period of at least 1 year beyond the program's standard length, provided the Service member is in good academic standing and has been continuously enrolled or received an approved academic leave of absence. Adjustments to degree requirements may be made as a result of formal changes to academic policy pursuant to institutional or departmental determination, provided that:

(a) They go into effect at least 2 years after affected students have been notified; or

(b) In instances when courses or programs are no longer available or changes have been mandated by a State or accrediting body, the educational institution will identify low or no cost solutions, working with affected Service members to identify substitutions that would not hinder the student from graduating in a timely manner.

(5) Degree requirements and evaluated educational plans will meet educational requirements for credentialing in stated career field and graduates of a program will be eligible for relevant professional license or certification. Educational institutions will disclose any conditions (state or agency limitations) or additional requirements (training, experience, or exams) required to obtain relevant credentials.

d. Approved and TA Eligible Courses.

(1) Approved Courses. If an eligible Service member decides to use TA, educational institutions will enroll him or her only after the TA is approved by the individual's Service. Service members will be solely responsible for all tuition costs without this prior approval. This requirement does not prohibit an educational institution from pre-registering a Service member in a course in order to secure a slot in the course. If a school enrolls the Service member before the appropriate Service approves Military TA, then the Service member could be responsible for the tuition. All Military TA must be requested and approved prior to the start date of the course. The Military TA is approved on a course-by-course basis and only for the specific course(s) and class dates that a Service member requests. If a military student “self-identifies” their eligibility and the Service has not approved the funding, then the Service member will be solely responsible for all tuition costs, not the Service.

(2) TA Eligible Courses. Courses will be considered eligible for TA if they are:

(a) Part of an individual's evaluated educational plan; or

(b) Prerequisites for courses within the individual's evaluated educational plan; or

(c) Required for acceptance into a higher-level degree program, unless otherwise specified by Service regulations.

e. Use of Financial Aid with TA.

(1) “Top-Up” eligible active duty DoD personnel may use their Montgomery or Post-9/11 G.I. Bill benefit in conjunction with TA funds from their Service to cover those course costs to the Service member that exceed the amount of TA paid by his or her Service. RC members who qualify for Montgomery G.I. Bill benefits may use those benefits concurrently with TA. RC members who have earned entitlement for the Post-9/11 G.I. Bill can use both VA education benefits and TA, but VA will only pay for the portion of tuition not covered by TA; therefore, the combination of VA education benefits and TA will not exceed 100 percent of the actual costs of tuition.

(2) DoD personnel are entitled to consideration for all forms of financial aid that educational institutions make available to students at their home campus. Educational institution financial aid officers will provide information and application processes for Title IV student aid programs, scholarships, fellowships, grants, loans, etc., to DoD TA recipients.

(3) Service members identified as eligible DoD TA recipients, who qualify for Pell Grants through ED's student aid program, will have their TA benefits applied to their educational institution's account prior to the application of their Pell Grant funds to their account. Unlike TA funds, which are tuition-restricted, Pell Grant funds are not tuition-restricted and may be applied to other allowable charges on the account.

f. Administration of Tuition.

(1) The Services will provide TA in accordance with DoD- and Service-appropriate regulations.

(2) Educational institutions will comply with these requirements for the return of TA funds:

(a) Return any TA Program funds directly to the Military Service, not to the Service member.

(b) Up to the start date, return all (100 percent) TA funds to the appropriate Military Service when the Service member does not:

(i) begin attendance at the institution or

(ii) start a course, regardless of whether the student starts other courses

(c) Return any TA funds paid for a course that is cancelled by the educational institution.

(d) Have an institutional policy that returns any unearned TA funds on a proportional basis through at least the 60 percent portion of the period for which the funds were provided. TA funds are earned proportionally during an enrollment period, with unearned funds returned based upon when a student stops attending. In instances when a Service member stops attending due to a military service obligation, the educational institution will work with the affected Service member to identify solutions that will not result in a student debt for the returned portion.

(3) Tuition charged to a Service member will in no case exceed the rate charged to nonmilitary students, unless agreed upon in writing by both the educational institution and the Service.

(4) Educational institutions will provide their tuition charges for each degree program to the Services on an annual basis. Any changes in the tuition charges will be provided to and explained to all the Services, as soon as possible, but not fewer than 90 days prior to implementation.

(a) Tuition charges at many public institutions are established by entities over which they have no jurisdiction, such as State legislatures and boards. As such, in some instances tuition decisions will not be made within the 90-day requirement window.

(b) When this happens, the educational institution will request a waiver (via the DoD MOU Web page) and provide the Services with the new tuition charges. To the extent practicable by State law or regulation, Service members already enrolled will not be impacted by changes in tuition charges.

(5) TA invoicing information is located in the Service-specific addendums attached to this MOU.

g. Course Cancellations. Educational institutions are responsible for notifying Service members of class cancellations for both classroom and DL courses.

h. Materials and Electronic Accessibility.

(1) Educational institutions will ensure that course materials are readily available, either electronically or in print medium, and provide information about where the student may obtain class materials at the time of enrollment or registration.

(2) Educational institution representatives will refrain from encouraging or requiring students to purchase course materials prior to confirmation of sufficient enrollments to conduct the class. Students will be encouraged to verify course acceptance by CCAF (Air Force only) or other program(s), with the responsible education advisor before enrolling or requesting TA.

(3) Educational institutions will provide, where available, electronic access to their main administrative and academic center's library materials, professional services, relevant periodicals, books, and other academic reference and research resources in print or online format that are appropriate or necessary to support the courses offered. Additionally, educational institutions will ensure adequate print and non-print media resources to support all courses being offered are available at base or installation library facilities, on-site Institution resource areas, or via electronic transmission.

i. Graduation Achievement Recognition.

(1) The educational institution will issue, at no cost to the Government, documentation as proof of completion, such as a diploma or certificate, to each student who completes the respective program requirements and meets all financial obligations.

(2) In accordance with Service requirements, the educational institution will report to the Service concerned those TA recipients who have completed a certificate, diploma, or degree program. Reporting will occur at least annually and include the degree level, major, and program requirements completion date.

(3) The academic credentials for certificate, diploma, or degree completion will reflect the degree-granting educational institution and campus authorized to confer the degree.

(a) If the Service member attends a branch of a large, multi-branch university system, the diploma may indicate the credential of the specific campus or branch of the educational institution from which the student received his or her degree.

(b) Credentials will be awarded to Service members with the same institutional designation as non-Service members who completed the same course work for a degree from the same institution.

(4) The educational institution will provide students with the opportunity to participate in a graduation ceremony.

j. Reporting Requirements and Performance Metrics.

(1) The educational institution will provide reports via electronic delivery on all DoD TA recipients for programs and courses offered to personnel as required by the cognizant Service. This includes, but is not limited to, TA transactions, final course grades to include incompletes and withdrawals, degrees awarded, certificates earned, evaluated educational plans, courses offered, and military graduation. Educational institutions providing face-to-face courses on a DoD installation will provide a class roster to the responsible education advisor. The class roster will include information such as the name of the instructor, the first and last name of each student (military and non-military), the course title, the class meeting day(s), the start and ending time of the class, and the class location (e.g., building and room number).

(a) All reporting and transmitting of this information will be done in conformity with all applicable privacy laws, including FERPA.

(b) Educational institutions will respond to these requests in a timely fashion, which will vary based on the specific nature and scope of the information requested.

(2) The cognizant Service may evaluate the educational institution's overall effectiveness in administering its academic program, courses, and customer satisfaction to DoD. A written report of the findings will be provided to the educational institution. The educational institution will have 90 calendar days to review the report, investigate if required, and provide a written response to the findings.

(3) The Services may request reports from an educational institution at any time, but not later than 2 years after termination of the MOU with such educational institution. Responses to all requests for reports will be provided within a reasonable period of time, and generally within 14 calendar days. Institutional response time will depend on the specific information sought by the Services in the report.

5. Requirements and Responsibilities for the Delivery of On-Installation Voluntary Education Programs and Services

a. The requirements in this section pertain to educational institutions operating on a DoD installation.

An installation MOU:

(1) Is required if an educational institution is operating on a DoD installation.

(2) Contains only the installation-unique requirements coordinated by the responsible education advisor, with concurrence from the appropriate Service voluntary education representative, and approved by the installation commander.

(3) Cannot conflict with the DoD Voluntary Education Partnership MOU and governing regulations.

b. Educational institutions will:

(1) Agree to have a separate installation MOU if they have a Service agreement to provide on-installation courses or degree programs.

(2) Comply with the installation-unique requirements in the installation MOU.

(3) Agree to coordinate degree programs offered on the DoD installation with the responsible education advisor, who will receive approval from the installation commander, prior to the opening of classes for registration.

(4) Admit candidates to the educational institution's on-installation programs at their discretion; however, priority for registration in DoD installation classes will be given in the following order:

(a) Service members.

(b) Federally funded DoD civilian employees.

(c) Eligible adult family members of Service members and DoD civilian employees.

(d) Military retirees.

(e) Non-DoD personnel.

(5) Provide the responsible education advisor, as appropriate, a tentative annual schedule of course offerings to ensure that the educational needs of the military population on the DoD installation are met and to ensure no course or scheduling conflicts with other on-installation programs.

(6) Provide instructors for their DoD installation courses who meet the criteria established by the educational institution to qualify for employment as a faculty member on the main administrative and academic center.

(7) Inform the responsible education advisor about cancellations for classroom-based classes on DoD installations per the guidelines set forth in the separate installation MOU.

c. The Services' designated installation representative (usually the responsible education advisor), will be responsible for determining the local voluntary education program needs for the serviced military population and for selecting the off-duty educational programs to be provided on the DoD installation, in accordance with the Services' policies. The Service, in conjunction with the educational institution, will provide support services essential to operating effective educational programs. All services provided will be commensurate with the availability of resources (personnel, funds, and equipment). This support includes:

(1) Classroom and office space, as available. The Service will determine the adequacy of provided space.

(2) Repairs as required to maintain office and classroom space in “good condition” as determined by the Service, and utility services for the offices and classrooms of the educational institution located on the DoD installation (e.g., electricity, water, and heat).

(3) Standard office and classroom furnishings within available resources. No specialized equipment will be provided.

(4) Janitorial services in accordance with DoD installation facility management policies and contracts.

d. The Service reserves the right to disapprove DoD installation access to any employee or agent of the educational institution employed to carry out any part of this MOU.

e. Operation of a privately owned vehicle by educational institution employees on the DoD installation will be governed by the DoD installation's policies.

f. The responsible education advisor will check with his or her Service's responsible office for voluntary education before allowing an educational institution to enter into an MOU with the DoD installation.

6. Review, Modifications, Signatures, Effective Date, Expiration Date, and Cancellation Provision.

a. Review. The signatories (or their successors) will review this MOU periodically in coordination with the Services, but no less than every 5 years to consider items such as current accreditation status, updated program offerings, and program delivery services.

b. Modifications. Modifications to this MOU will be in writing and, except for those required due to a change in State or Federal law, will be subject to approval by both of the signatories below, or their successors.

c. Signatures. The authorized signatory for DoD will be designated by the USD(P&R). The authorized signatory for the educational institution will be determined by the educational institution.

d. Effective Date. This MOU is effective on the date of the later signature.

e. Expiration Date. This MOU will expire 5 years from the effective date, unless terminated or updated prior to that date in writing by DoD or the educational institution.

f. Cancellation Provision. This MOU may be cancelled by either DoD or the educational institution 30 days after receipt of the written notice from the cancelling party. In addition, termination and suspension of an MOU with an educational institution may be done at any time for failure to follow a term of this MOU or misconduct in accordance paragraphs (a)(18)(i) through (a)(18)(iii) of § 68.6.

FOR THE DEPARTMENT OF DEFENSE:

DESIGNATED SIGNATORY

DATE

FOR THE EDUCATIONAL INSTITUTION:

PRESIDENT or Designee

DATE

Appendix B to Part 68—Addendum for Education Services Between [Name of Educational Institution] and the U.S. Air Force (USAF)

1. Purpose. This addendum is between (Name of Educational Institution), hereafter referred to as the “Institution,” and the United States Air Force (USAF). The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the USAF to provide funds to the Institution that would be contrary to Federal law.

2. Responsibilities.

a. USAF Education and Training Section (ETS) Chief. The USAF ETS Chief will:

(1) Maintain a continuing liaison with the designated Institution representative and be responsible for inspections and the acceptance of the Institution's services. The ETS Chief will assist the Institution representative to provide military and USAF culture orientation to the Institution personnel.

(2) Review requests from Institutions with no on-installation MOU for permission of DoD installation access and space within the ETS to counsel current students, provide information briefings and materials, attend education fairs, and provide other informational services approved by the installation commander. Approval depends on the installation commander. Approval of any school eligible for Military TA will be extended equally to all such schools; same time allotment, space, and frequency.

(3) Assist the Institution or refer them to the information technology contractor for training in the use of the Academic Institution Portal (AI Portal) regarding input of Institution information, degree offerings, tuition rates, grades, invoices, degree completions, and search tools pre-built into the USAF online Voluntary Education System.

b. Institutions will:

(1) Appoint and designate an Institution representative to maintain a continuing liaison with the USAF ETS Chief.

(2) Provide general degree requirements to each member for his or her education program and the ETS as soon as he or she makes known their intention to register with the Institution and while awaiting final evaluation of transfer credits.

(3) Assume responsibility for the administration and proctoring of all course examinations not normally administered and proctored within the traditional, in-the-classroom setting.

(4) Provide to airmen, upon their request, information on Institution policies including, but not limited to, course withdrawal dates and penalties, course cancellation procedures, course grade publication, billing practices, and policy regarding incompletion of a course. Face-to-face counseling is not required.

(5) Register and use the AI Portal to input Institution basic information, degree offerings, tuition rates, invoice submission, course grades submission, degree completions, and to pull pre-established educational institution reports while conducting business with the USAF.

(6) Submit one consolidated invoice per term via the AI Portal for each class in which active duty military airmen are enrolled using Mil TA. Submission will be made during the term, no earlier than after the final add/drop/census date, and no later than 30 calendar days after the end of the term.

(7) Submit course grades via the AI Portal for each class in which active duty military airmen are enrolled using Mil TA. Submission will be made no later than 30 calendar days after the end of the term.

(8) Adopt the AI Portal procedures for all payment processing. Institutions with a current waiver may continue to participate at the discretion of Air Force Voluntary Education Branch.

(9) Provide a list of program graduates via the AI Portal consisting of student name, program title, program type (such as bachelor's degree), and date of graduation no later than 30 calendar days after the end of the term in which graduation requirements are completed. If the AI Portal is not available, provide directly to the base Education and Training Section.

c. Institutions with no on-installation MOU are authorized to request permission for DoD installation access and space within the ETS to counsel current students, provide information briefings and materials, attend education fairs, and other informational services. Approval depends on the installation commander. If approval is granted, then all other permissions will be authorized equally for any school eligible for Military TA; the same time allotment, space, and frequency.

d. All Institutions with an on-installation MOU or invitation for an on-installation activity, such as an educational fair, are authorized to counsel or provide information on any of their programs.

3. Additional Guidelines

a. In addition to DoD policy outlined in the DoD Voluntary Education Partnership MOU, the authorization of Mil TA is further governed by Air Force Instruction (AFI) 36-2306, as well as applicable policy and guidance.

b. DoD installation access of non-DoD and non-installation personnel is at the discretion of the installation commander. Access once provided can be revoked at any time due to military necessity or due to conduct that violates DoD installation rules or policies.

c. No off-base school will be given permanent space or scheduled for regularly recurring time on-base for student counseling.

Appendix C to Part 68—Addendum for Education Services Between [Name of Educational Institution] and the U.S. Army

1. Purpose. This addendum is between (Name of Educational Institution), hereafter referred to as the “Institution,” and the United States Army. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Army to provide funds to the Institution that would be contrary to Federal law.

2. Responsibilities.

a. Army Education Services Officer (ESO): In support of this addendum, the Army ESO will maintain a continuing liaison with a designated Institution representative and be responsible for inspections and the acceptance of the Institution's services. The ESO will provide assistance to the Institution representative to provide military and Army culture orientation to the Institution personnel.

b. Institutions. The Institution will:

(1) Appoint and designate an Institution representative to maintain a continuing liaison with the Army ESO.

(2) Adopt the GoArmyEd processes. GoArmyEd is the Army Continuing Education System (ACES) centralized and streamlined management system for the Army's postsecondary voluntary education programs. Existing MOUs or Memorandums of Agreement, Tri-Services contracts, or other contracts that Institutions may have with DoD installations and ACES remain in place and will be supplemented with DoD Instruction 1322.25.

(3) Agree to all of the terms in the ACES policies and procedures, available at https://www.hrc.army.mil/site/education/GoArmyEd_School_Instructions.html, such as: Invoicing, grades, reports, library references, etc. For non-Letter of Instruction (LOI) institutions satisfying paragraph 3.f. of this MOU, any requirements in ACES policies and procedures requiring institutions to be a member of SOC are hereby waived.

(4) Institutions currently participating with GoArmyEd as LOI and non-LOI schools, may continue to do so at the discretion of Headquarters, ACES. Non-LOI schools will be subject to the requirements of paragraphs 2.b.(2) and 2.b.(3) of this MOU only to the extent that their existing non-LOI agreement with the U.S. Army provides.

Appendix D to Part 68—Addendum for Education Services Between [Name Of Educational Institution] and the U.S. Marine Corps

1. Purpose. This addendum is between (Name of Educational Institution), hereafter referred to as the “Institution,” and the U.S. Marine Corps. The purpose of this agreement is to provide guidelines and procedures for the delivery of educational services to Service members, DoD civilian employees, eligible adult family members, military retirees, and non-DoD personnel not covered in the DoD Voluntary Education Partnership Memorandum of Understanding between the DoD Office of the Under Secretary of Defense for Personnel and Readiness and the Institution. This addendum is not to be construed in any way as giving rise to a contractual obligation of the U.S. Marine Corps to provide funds to the Institution that would be contrary to Federal law.

2. Responsibilities.

a. Marine Corps Education Services Officer (ESO): In support of this addendum, the Marine Corps ESO will maintain a continuing liaison with a designated Institution representative and be responsible for inspections and the acceptance of the Institution's services. The ESO will provide assistance to the Institution representative to provide military and Marine Corps culture orientation to the Institution personnel.

b. Institution. The Institution will:

(1) Appoint and designate an Institution representative to maintain a continuing liaison with the Marine Corps ESO.

(2) Provide open enrollment during a designated time periods in courses conducted through media (e.g., portable media devices or computer-aided). Those courses will be on an individual enrollment basis.

(3) When operating on a Marine Corps installation, provide all required equipment when the Institution provides instruction via media.

(4) When operating on a Marine Corps installation, provide library services to the Marine Corps installation for students in the form of research and reference materials (e.g., books, pamphlets, magazines) of similar quality to the support provided students on the institution's home campus. Services will also include research and reference material in sufficient quantity to meet curriculum and program demands. Materials will be, at a minimum, the required readings of the instructor(s) for a particular course or program, or the ability for the student to request a copy of such material, from the institution's main library, without any inconvenience or charge to the student (e.g., a library computer terminal that may allow students to order material and have it mailed to their residence).

(5) Permit employment of off-duty military personnel or Government civilian employees by the institution, provided such employment does not conflict with the policies set forth in DoD Regulation 5500.7-R. However, Government personnel employed in any way in the administration of this addendum will be excluded from such employment because of conflict of interest.

3. Billing Procedures, And Formal Grades.

a. Comply with wide area work flow process for invoicing tuition assistance available at https://www.navycollege.navy.mil/links.

b. Grades will be submitted through the Navy College Management Information System grade entry application.

c. Grade reports will be provided to the Naval Education and Training Professional Development and Technology Center within 30 days of term ending or completion of the course, whichever is earlier.

Appendix E to Part 68—Addendum for Education Services Between [Name of Educational Institution] and the U.S. Navy

1. Purpose. This addendum is between (Name of Educational Institution), hereafter referred to as the “Institution,” and the U.S. Navy. The purpose of this agreement is to provide guidelines and procedures for the delivery of educational services to Service members, DoD civilian employees, eligible adult family members, military retirees, and non-DoD personnel not covered in the DoD Voluntary Education Partnership Memorandum of Understanding (MOU) between the DoD Office of the Under Secretary of Defense for Personnel and Readiness and the Institution. This addendum is not to be construed in any way as giving rise to a contractual obligation of the Department of the Navy to provide funds to the Institution that would be contrary to Federal law.

2. Responsibilities.

a. Commanding Officer responsible for execution of the Voluntary Education Program. The commanding officer responsible for execution of the voluntary education program will:

(1) Determine the local voluntary education program needs for the Navy population to be served and recommend to the installation commander the educational programs to be offered on the base;

(2) Administer this agreement and provide program management support;

(3) Manage the Navy College Program Distance Learning Partnership (NCPDLP) agreements.

b. Navy College Office (NCO): In support of this addendum, the NCO will maintain a continuing liaison with the designated Institution representative and be responsible for inspections and the acceptance of the Institution's services. The NCO will provide assistance to the Institution representative to provide military and Navy culture orientation to the Institution personnel.

c. Institution. The Institution will:

(1) If a distance learning partner institution:

(i) Comply with NCPDLP agreements, if an institution participates in NCPDLP.

(ii) Provide a link to the institution through the Navy College Program Web site, only if designated as an NCPDLP school.

(iii) Display the Institution's advertising materials (i.e., pamphlets, posters, and brochures) at all NCOs, only if designated as an NCPDLP school.

(2) Appoint and designate an Institution representative to maintain a continuing liaison with the NCO staff.

(3) Comply with wide area work flow processes for invoicing of tuition assistance available at https://www.navycollege.navy.mil/links. Grades will be submitted to the Navy College Management Information System grade entry application.

(4) Ensure library resource arrangements are in accordance with the standards of the Institution's accrediting association and the State regulatory agency having jurisdiction over the Institution.

(5) Respond to email messages from students within a reasonable period of time—generally within two workdays, unless extenuating circumstances would justify additional time.

(6) Comply with host command procedures before starting instructor-based courses on any Navy installation. The NCO will negotiate a separate agreement with the Institution in concert with the host command procedures.

(7) Mail an official transcript indicating degree completion, at no cost to the sailor or the Government to: Center for Personal and Professional Development, ATTN: Virtual Education Center, 1905 Regulus Ave., Suite 234, Virginia Beach, VA 23461-2009.

Dated: May 9, 2014.
Aaron Siegel,
Alternate OSD Federal Register Liaison Officer, Department of Defense.

[FR Doc. 2014-11044 Filed 5-14-14; 8:45 am]

BILLING CODE 5001-06-P